ENVIRONMENTAL PROTECTION AGENCY

40 CFR Part 180

[EPA-HQ-OPP-2006-0766; FRL-10015-19]

RIN 2070-AJ28

Tolerance Crop Grouping Program V

AGENCY: Environmental Protection Agency (EPA).

ACTION: Final rule.

SUMMARY: This final rule revises the current pesticide tolerance crop grouping regulations, which allow the establishment of tolerances for multiple related crops based on data from a representative set of crops. Specifically, the final rule revises one commodity definition, adds three new commodity definitions, and amends the current herbs and spices crop group currently provided in Crop Group 19. The crops in the current “Crop Group 19: Herbs and Spices Group” are separated into two new crop groups, “Crop Group 25: Herb Group” and “Crop Group 26: Spice Group” and additional commodities are added to Crop Groups 25 and 26. These revisions will increase the utility and benefit of the crop grouping system for producers and other stakeholders involved in commercial agriculture. This is the fifth in a series of planned crop group updates.

DATES: This final rule is effective January 5, 2021.

ADDRESSES: The docket for this action, identified by docket identification (ID) number EPA-HQ-OPP-2006-0766, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Sara Kemme, Regulatory Support Branch, Mission Support Division, Office of Program Support, Environmental Protection Agency, 1200 Pennsylvania Ave. NW, Washington, DC 20460-0001; telephone number (703) 347-8533; email address: kemme.sara@epa.gov.

SUPPLEMENTARY INFORMATION:

I. Executive Summary

A. Does this action apply to me?

You may be potentially affected by this action if you are an agricultural producer or food manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What is the Agency's authority for taking this action?

This rule is issued under the authority of section 408(e)(1)(C) of the Federal Food, Drug, and Cosmetic Act (FFDCA), which authorizes EPA to establish “general procedures and requirements to implement (section 408).” 21 U.S.C. 346a(e)(1)(C). Under section 408 of the FFDCA, EPA establishes tolerances for pesticide chemical residues in or on food, where there is a reasonable certainty that no harm will result from aggregate exposure to the pesticide chemical residue. A tolerance is the maximum permissible residue level established for a pesticide in raw agricultural commodities and processed foods. EPA establishes tolerances for each pesticide after assessing the potential risks to human health posed by that pesticide. The crop group regulations currently in 40 CFR 180.40 and 180.41 enable the establishment of tolerances for a group of crops based on residue data for certain crops that are representative of the group.

C. What action is the Agency taking?

This final rule revises EPA's regulations governing crop group tolerances for pesticides. Specifically, this rule is finalizing a revision to one commodity definition, adding three new commodity definitions, and amending the current herbs and spices crop group currently provided in Crop Group 19. The crops in the current “Crop Group 19: Herbs and Spices Group” are separated into two new crop groups, “Crop Group 25: Herb Group” and “Crop Group 26: Spice Group” and additional commodities are added to Crop Groups 25 and 26. This final rule is the fifth in an ongoing series of crop group updates, including additional updates expected to be promulgated in the next several years.

D. Why is the Agency taking this action?

EPA sets tolerances, which are the maximum amount of a pesticide allowed to remain in or on a food, as part of the process of regulating pesticides that may leave residues in food. Crop groups are established when residue data for certain representative crops are used to establish pesticide tolerances for a group of crops that are botanically or taxonomically related. Representative crops of a crop group or subgroup are those whose residue data can be used to establish a tolerance for the entire group or subgroup.

With the establishment of crop groups such as the ones in this final rule, EPA seeks to:

• Enhance our ability to conduct food safety evaluations on herb and spice crops for tolerance-setting purposes;

• Promote global harmonization of food safety standards;

• Reduce regulatory burden; and

• Ensure food safety for agricultural goods.

E. What are the estimated incremental economic impacts of this action?

EPA prepared an Economic Analysis which shows that this is a burden-reducing regulation (Ref. 1). Crop grouping saves money by permitting the results of pesticide residue studies for some crops, called representative crops, to be applied to other, similar crops in the group. EPA expects these revisions to promote greater use of crop groupings for tolerance-setting purposes, both domestically and in countries that export food to the U.S.

The estimate of cost savings from creating the new, separate herb group and spice group is $51.8 million annually.

II. The Proposed Rule

EPA published a notice of proposed rulemaking in the Federal Register on August 27, 2019 (84 FR 44804) (FRL-9996-03). Eight parties submitted comments on the proposal: One private citizen; Hudson Trading Group; Canadian Specialty Agriculture Association; Alberta Rhodiola Rosea Growers Organization, Inc.; American Spice Trade Association; American Herbal Products Association; Aromatics, Inc.; and the Provincial Minor Use Coordinator for Alberta, Canada.

III. Response to Comments

In this unit, EPA describes the major provisions of the proposed rule, the comments received on the provisions and EPA's responses to the comments, and EPA's determination regarding the final rule.

A. Separation of Herbs and Spices in Crop Group 19: Herbs and Spices

EPA proposed to divide the current “Crop Group 19: Herbs and Spices Group” into two separate crop groups. In accordance with the process outlined in 40 CFR 180.40(j), Crop Group 19 will be retained in the CFR until all the tolerances for the pre-existing Crop Group 19 and its associated subgroups have been updated to comply with the new crop groups.

EPA received comments expressing support for the proposed rule. Commenters pointed out the potential for reducing the regulatory burden associated with establishing a tolerance while maintaining the safety of the food supply. In addition, commenters were supportive of EPA harmonizing standards with international partners such as Canada and Mexico, and with Codex Alimentarius Commission (Codex). EPA is finalizing the proposed approach of separating the current “Crop Group 19: Herbs and Spices Group” into two crop groups, “Crop Group 25: Herb Group” and “Crop Group 26: Spice Group.”

B. Crop Group 25: Herb Group

EPA proposed to establish a new crop group, titled “Crop Group 25: Herb Group.”

1. Commodities. EPA proposed to include 317 commodities in Crop Group 25. All the 317 proposed commodities are included in Crop Group 25 in this final rule. EPA added 101 new commodities directly to Crop Group 25 in response to commenter suggestions or, as discussed in the proposed rule, to include both fresh and dried forms of herb commodities whenever possible (84 FR 44811). EPA also added 25 commodities indirectly to Crop Group 25 by adding them to the definition in 40 CFR 180.1 of edible flowers, which is a commodity in Crop Group 25. A total of 418 commodities are included directly, and 25 indirectly through 40 CFR 180.1 to Crop Group 25.

Most of the commenters suggested that additional commodities be included in Crop Group 25. EPA evaluated whether these commodities should be included in Crop Group 25 by assessing whether the commodities are already in other crop groups and considering the same criteria used to determine the commodities included in the proposed rule: Similarities of growth habits, the herbs being either fresh or dried leaves, similar pest problems, sources of essential oil, lack of animal feed items, comparison of established tolerances, and international harmonization. EPA identified 101 new commodities that have been added directly to Crop Group 25 (54 commodities fresh and 47 commodities dried), plus 25 new commodities that have been added to the definition of edible flowers, and thus indirectly added to Crop Group 25. EPA determined that it is more appropriate to include some of the suggested commodities in other crop groups and that other commodities do not fit in any of the existing crop groups. The reasons for EPA's determinations are provided below.

EPA received four comments requesting that the Agency include Rhodiola rosea in the herb crop group. EPA is not adding Rhodiola rosea to the Herb Crop Group because EPA has determined that R. rosea is more appropriately placed in the Root and Tuber Vegetable Crop Group 1 as the edible part is the root. The Crop Group 1 will be revised as part of a future crop grouping regulation to include R. rosea. Rhodiola (also known as king's crown roots, golden root, rose root, Aaron's rod, Arctic root, or orpin rose) is better placed in the Root and Tuber Vegetable Crop Group than the Herb Crop Group 25, since the cultural practices are similar to other root and tuber crops.

EPA also received two comments, from Hudson Trading Group and the American Spice Trade Association (ASTA), requesting the addition of celery, dried leaves to Crop Group 25: Herb Group. EPA agrees this commodity is not currently covered by a crop group and has added celery, dried leaves, to the new Crop Group 25 and to subgroup 25B for dried herbs, since the cultural practices and pesticide residues are expected to be comparable to basil or mint, the representative commodities for the subgroup. The fresh leaves form of the commodity will remain in Stalk, Stem, and Leaf Petiole Vegetable Crop Group 22. As with some other crops (e.g., cilantro, parsley, and chives), the fresh leaves commodity of celery is assigned to a different crop group based on similarity in cultural practices and pesticide residues compared to other commodities in the crop group.

One commenter, Aromatics, Inc., asked EPA to consider including additional commodities in Crop Group 25. ASTA also requested that EPA add Echinacea purpurea, dried, to Crop Group 25. Below are the commodities requested by Aromatics, Inc. followed by the Agency's responses:

• Skullcap (Scutellaria lateriflora) leaf

○ “Skullcap, fresh leaves” and “Skullcap, dried leaves” have been added to include the leaves of this commodity due to similarities to the Herb Crop Group.

• Echinacea (aerial parts and roots of Echinacea purpurea and Echinacea pallida)

○ The commodity name of “Echinacea, dried leaves” has been expanded to include “Echinacea spp.” to include the leaves of these commodities.

○ “Echinacea, fresh leaves” has been added and includes “Echinacea spp.” in the scientific name to include the leaves of these commodities.

○ Crop Group 1: Root and Tuber Vegetable Group will be revised in the future to include the roots of these commodities.

• Licorice (Glycyrrhiza glabra) root

○ Crop Group 1: Root and Tuber Vegetable Group will be revised to include the roots of this commodity.

• Blackberry leaf (Rubus spp.)

○ “Chinese blackberry, fresh leaves” and “Chinese blackberry, dried leaves” have been added to include the leaves of this commodity.

• Hibiscus (Hibiscus sabdariffa and Hibuscus lunariifolus)

○ The term “Hibiscus (Hibiscus spp.)” in the commodity definition of “Flowers, edible, multiple species” already includes these commodities.

The American Herbal Products Association (AHPA) requested that EPA include several hundred additional commodities in Crop Group 25 or Crop Group 26. Table 1 in the AHPA comments includes 195 commodities that were submitted to EPA in 2013. AHPA restated its 2013 request that EPA include these commodities in a crop group. EPA already assessed whether to include these commodities in its work to identify commodities for the proposed rule. (See Refs. 2, 3 and 4). Because AHPA resubmitted the same list, EPA did not revisit this previous analysis for this final rule, although to the extent that commodities in AHPA Table 1 were suggested by other commenters, EPA evaluated them independently, and those responses are reflected in this preamble.

AHPA also identified more than 230 additional commodities, included in Table 2 of their comments, and requested that these be added to Crop Group 25 or 26 or another crop group. EPA's assessment of these commodities is included in separate Tables, (Ref. 5). Out of the commodities in Table 2 of the AHPA comments, 110 commodities were added to the Herb Crop Group 25 or the Spice Crop Group 26, with some commodities being added to both Crop Group 25 for their leaves and to the definition of edible flower, multiple species for their flower resulting in more 110 additional terms. Specifically, 25 commodities were added to the edible flower, multiple species definition in 40 CFR 180.1; 37 were added to the Herb Crop Group 25; and 51 commodities were added to the Spice Crop Group 26. Of the remaining commodities, 52 were determined to already be members of crop groups or were already proposed for inclusion with Crop Group 25 or 26; 53 are intended to be added to other crop groups; and 17 were not considered appropriate for inclusion within EPA crop groups.

AHPA identified a few instances where the commodities in proposed Crop Groups 25 and 26 included a common name that they say is not as well established as the common or usual name of the commodity. One instance included the herb Mitchella repens, which AHPA noted is better named as “partridge berry” than as “squaw vine.” Another instance involved changing the common name of Angelica dahurica to “dahurian angelica.” The commenter also suggested that EPA use AHPA's reference, Herbs of Commerce, which is used to identify the common or usual names of ingredients of dietary supplements that are botanicals.

EPA agrees with the suggested change in the common name for Mitchella repens from squaw vine to partridge berry. EPA also incorporated a change regarding Angelica dahurica, which is intended to capture the most well established and common name used and is not a substantive change from the proposal for the commodity.

EPA consults a variety of sources and references, including Herbs of Commerce, when determining common names for commodities. Additionally, the Agency relies on stakeholder feedback to ensure the common name for a commodity reflects what is commonly used in channels of trade. The Agency has used available information to identify suitable common names for the commodities listed in Herb Crop Group 25 and Spice Crop Group 26, in order to avoid confusion.

2. Representative commodities. In the absence of comments, EPA is finalizing the proposed approach and is establishing the following commodities as representative commodities for Crop Group 25: Basil, fresh leaves; mint, fresh leaves; basil, dried leaves; and mint, dried leaves.

3. Crop subgroups. EPA is finalizing the proposed approach of establishing two crop subgroups for the new “Crop Group 25: Herb Group”: Subgroup 25A for fresh herbs and subgroup 25B for dried herbs.

EPA did not receive comments specifically addressing Subgroups 25A and 25B, although EPA revised these subgroups to include the commodities that were added to Subgroup 25. Also, EPA revised the herb subgroups to include commodities in both subgroups wherever possible, as discussed in the proposed rule (84 FR 44811). In the proposed rule, 11 commodities were included in Crop Group 25 only in their fresh leaves form. For the final rule Crop Group 25 and Crop Subgroup 25B, it also includes the dried leaves form of these commodities. Similarly, 19 commodities that were included in the proposed rule only in their dried leaves form are also included in the final rule in their fresh leaves form in Crop Group 25 and Crop Subgroup 25A.

4. Commodity definitions. In conjunction with the new Crop Group 25, this final rule establishes commodity definitions in 40 CFR 180.1(g) for basil and mint and amends the commodity definition for marjoram with no changes from the proposal. The final rule also establishes a commodity definition for flowers, edible, multiple species, but EPA revised the proposed definition to include 25 additional commodities that commenters suggested should be included in the herb subgroup due to similarities of the suggested commodities to the fresh Crop Group.

5. Other comments related to the herb subgroup. EPA received several other comments that relate to Herb Crop Group 25. Specifically, one commenter noted that the proposed rule does not include a definition or description of the term “herbs” or of the term “spices” that clarifies the Agency's current thinking on the scope of the parts and types of plants proposed for inclusion in new Crop Groups 25 and 26. The commenter noted that in previous rulemakings EPA described “herbs” as “. . . grown largely in temperate climatic areas, mostly for their leaves and stems and may be used fresh or dried, such as basil.” EPA also described “spices” as “. . . grown mostly in tropical climatic areas and consisting mostly of aromatic seeds, dried roots, flowers, fruit, and/or bark, such as allspice.” (58 FR 44990, August 25, 1993). The commenter writes that it appears that the Agency is primarily including only crops that are used as an “herb” or a “spice” as those terms apply to culinary uses of botanical crops in foods to impart taste or aroma. Such limitation, however, does not recognize that the word “herb” is also used to describe other products that use plant commodities as ingredients. These include, for example, herbal tea as well as many cosmetic products. This commenter also suggested the possibility of including a separate group for “other botanicals” to include the commodities they suggested in a crop group.

While EPA did not specifically define “herbs” or “spices” in the 2019 proposal, the proposed rule explained that the 317 members of proposed Crop Group 25 were determined on a number of factors including similarities of growth habits, the herbs being either fresh or dried leaves, similar pest problems, sources of essential oil, lack of animal feed items, comparison of established tolerances, and international harmonization. (84 FR 44809). The proposed rule also explained that over 2,000 commodities were researched for being members of Spice Crop Group 26. The 166 members of proposed Crop Group 26 were determined based on similarities of growth habits and edible plant parts that are exposed similarly to pesticides, geographical distribution, lack of animal feed items, comparison of established tolerances and international harmonization. These criteria are more relevant for setting tolerances than the culinary uses. Additionally, EPA establishes tolerances for commodities that are used as food and feed, so it is not within EPA's authority to establish tolerances for herbs used for other purposes, such as cosmetics. In general, dietary supplements are considered food, except as provided for in section 201(ff) of the FFDCA, 21 U.S.C. 321(ff), and, as food, are included in Crop Groups 25 or 26. It is not necessary to add a separate crop group for other botanicals because the suggested commodities that are dietary supplements are included in Crop Groups 25 or 26. EPA evaluated the potential additional commodities suggested by all of the commenters and added them to Crop Groups 25 or 26 directly or indirectly added them to Herb Crop Group 25 by adding them to the commodity definition of edible flowers as they are considered fresh, dried and/or edible flowers.

Comment: Dehydration factor. EPA received one comment requesting that EPA clarify the source of the statement in the proposed rule that “tolerances for dried herbs are often significantly higher (4x to 7.3x) than fresh herbs.” This commenter also asked whether a dehydration factor could be used to calculate a tolerance for dried herbs and spices, which could reduce the data burden for establishing a tolerance on a dried commodity.

EPA response. The statement that tolerances for dried herbs are 4x to 7.3x higher than tolerances on fresh herbs was based on comparing actual tolerances, not on a dehydration factor. The Agency is not planning on using dehydration factors for herbs because the agricultural practices for many dried and fresh herbs may be very different depending on the target is the fresh or dried market. For spices, it is appropriate to adjust for the loss in moisture content when comparing pesticide residues in the dried commodity to the tolerance for the raw commodity (assuming the tolerance is not restricted to the fresh form of the commodity) because the agricultural practices are the same or similar for both the fresh and dried versions of these commodities. See the discussion below in response to the comment requesting that EPA add the dried version of commodities including red pepper, paprika, and onion and dried ginger to Spice Crop Group 26 for more details.

EPA considered the implications of using processing studies in place of field trials for dried herbs. While this would alleviate some of the regulatory and data burdens on a registrant, this burden is not significant because the registrant can use the same crop for both the fresh and dried trials when conducting a field residue study. The Agency also considered using a default dehydration factor to establish tolerance levels for dried herbs. While there is allowance for this approach for determining tolerance levels in some processed commodities, the approach is not suitable for determining tolerance levels in representative commodities, which is the case for dried herbs. Therefore, EPA has concluded that based on the minimal burden incurred by supplying residue data from both fresh and dried samples and the increased robustness of the resulting tolerance level, it is appropriate to require field trial data on both fresh and dried herbs to support a crop group tolerance on herbs or tolerances on the fresh and dried herb subgroups. Finally, EPA acknowledges that one commenter did not agree with some of the Agency's rationale for concluding that fresh herbs are grown in a different way than dried herbs. However, both the Agency and the commenter agree that both herb subgroups are important and may have different pest pressures and, thus, pest control practices.

C. Crop Group 26: Spice Group

1. Commodities. EPA proposed to include 166 commodities in a new crop group, titled “Crop Group 26: Spice Group.” The final rule includes 162 of the 166 proposed commodities in Spice Crop Group 26; the other 4 of the 166 proposed commodities (i.e., the leaves of dahurian angelica, damiana, gynema, and pipsissewa) were moved to Crop Group 25, and EPA added 43 additional commodities that were suggested by commenters due to similarities of the suggested commodities to the Spice Crop Group. The final rule includes 205 commodities in the Spice Crop Group.

EPA received requests from several commenters requesting changes to the commodities in Spice Crop Group 26.

EPA received a comment from the AHPA suggesting minor corrections to some commodity names. EPA is making the following revisions in response to the comment by changing the common names of Phyllanthus amarus to “amla” from “amia,” Agathosma betulina to “buchu” from “buchi,” and Frangula purshiana to “cascara sagrada” from “cascada buckthorn.” EPA incorporated these changes, which are intended to capture the most well-established and common names used and are not substantive changes from the proposal in the commodities covered.

AHPA suggested using different names for certain commodities in proposed Crop Groups 25 and 26 to better reflect what AHPA considers to be the common or usual name of the commodity, including two of the proposed spice commodities. AHPA commented that Acacia spp. is commonly known as “wattle” but is listed as “wattleseed” and that Achillea erba-rotta subsp. moschata is more commonly known as “milfoil” as opposed to “iva.”

EPA disagrees with these suggestions. Acacia spp. includes over 120 species and is commonly referred to in literature as “wattleseed,” which is the preferred term since it includes the raw agricultural commodity of interest (i.e., seed). For Achillea millefolium, EPA selected the common name “yarrow,” which is widely referred to in the literature (including the AHPA reference, Herbs of Commerce) as a synonym for “milfoil.” However, the related subspecies Achillea erba-rotta subsp. moschata is more commonly known as “iva;” see, for example, the Food and Drug Administration (FDA) has identified “iva” as the common name for Achillea moschata, 21 CFR 172.510.

As discussed above regarding the commodities in Herb Crop Group 25, AHPA submitted two lists of several hundred commodities each and requested that EPA include those commodities in Crop Group 25, Group 26, or another Crop Group. EPA's responses to that request are provided above in Unit III.B.1. of this preamble and in separate Response Tables (Ref. 5).

Another commenter, Aromatics, Inc., asked EPA to consider including additional commodities to Crop Group 26. ASTA also requested adding “elderberry, dried” and sesame to Crop Group 26. Below are the commodities requested by Aromatics, Inc. followed by the Agency's responses:

• Cardamom, Green (Elettaria cardamomum L.) fruit, dry

○ The commodity term “Cardamom, green” in Spice Crop Group 26 already includes this commodity.

• Elderberry (Sambucus nigra) fruit, dry and Elderberry (Sambucus ebulus) fruit, dry, and Elderberry, dried (Sambucus spp.)

○ The commodity term “Elderberry” in Berry and Small Fruit Crop Group 13-07 already includes these commodities.

• Sesame (Sesamum indicum L.)

○ Sesame, seed (Sesamum indicum L.) will be added to Crop Group 26 in order to cover varieties grown for culinary purposes which are different from the varieties grown for oilseed currently covered by Crop Group 20.

ASTA also requested that the following commodities be added to Crop Group 26 in their dried form as spices: Red pepper, dried (Capsicum frutescens L. or Capsicum annuum L.); paprika, dried (Capsicum annuum L.); ginger, dried (Zingiber officinale); turmeric, dried (Curcuma longa L.); arrowroot, dried (Maranta arundinacea); garlic, dried (Allium sativum); and onion, dry bulb and green, dried (Allium cepa, A. fistulosum). ASTA acknowledges that these commodities are in other crop groups in their fresh forms, but that dried or powdered versions of these are considered spices.

These commodities are in the following crop groups: Red pepper, the raw agricultural commodity for red pepper, dried and paprika, dried, is in Crop Group 8-10: Fruiting Vegetables; ginger, turmeric, and arrowroot are in Crop Group 1: Root and Tuber Vegetables; and garlic, dry bulb onion, and green onion are in Crop Group 3-07: Bulb Vegetables.

It is not necessary to include the dried version of the commodities suggested by Aromatics and ASTA in Spice Crop Group 26 because the tolerances for the fresh version of those commodities apply to and are sufficient to address the residues in the dried form of the commodities. In the absence of a tolerance for the dried form of a commodity, the tolerance for the raw commodity (assuming it is not restricted to the fresh form of the commodity) is applied, after correcting for the loss in moisture content. Since the agricultural practices are the same or similar for both the fresh and dried versions of these commodities, adjustments to the tolerance to account for differences in moisture content would be appropriate. Thus, residues in the dried form are covered by tolerance listings for the raw commodity, either individually or as a member of a crop group. In contrast, the agricultural practices for many dried and fresh herbs may be very different depending on the target is the fresh or dried market, which is why EPA is establishing specific tolerances for the fresh and dried forms of the herb commodities.

ASTA requested that EPA add pink pepper, dried (Schinus terebinthifolius) to Spice Crop Group 26. This commenter also asked that EPA combine all types of pepper, including black and white pepper (Piper nigrum L.) into one group of pepper that is listed as a commodity in Crop Group 26, so other types of pepper that are the same species, such as green pepper, are included.

EPA has added both “pepper, pink” and “peppercorn, green” to Spice Crop Group 26. However, EPA has not combined black and white pepper into one group of pepper. In the current Crop Group 19: Herb and Spice Group, black pepper and white pepper have been listed as separate commodities for years with no previous objections from stakeholders. Although they are from the same plant, white pepper and black pepper are the kernels harvested at different maturity stages, whereas green peppercorn is the unripe fruit of the pepper plant, dried green.

2. Representative commodities. EPA proposed to adopt the following commodities as representative commodities for the new Crop Group 26: Celery seed or dill seed. One commenter requested that EPA create a system to allow other commodities within the spice category to serve as the representative crop.

The Agency considered the use of field trial data on any spice to establish a spice group tolerance. Due to the fact that the majority of spices are grown overseas, EPA has concluded that it is highly unlikely that the Agency would receive field trial data for most of the spices in Spice Group 26. This is also borne out by the fact that EPA has received very few, if any, field trial residue data for black pepper, a current representative commodity for Spice Subgroup 19B. EPA maintains the position that celery seed or dill seed are appropriate representative crops for the spice crop group for the following reasons and is finalizing the selection of dill, seed or celery, seed as the representative crops for Spice Group 26:

a. These commodities are the only spice crops with significant acres grown in the United States;

b. These commodities are the only spice crops for which there is any real expectation of getting field trial data;

c. While not strictly representative of other spices, field trial residues from these commodities will cover expected monitoring-data residues in other spices; and

d. U.S. produced spices are not extensively exported, so the higher tolerance, compared to what would be established based on monitoring data, is not a trade irritant to U.S. growers.

3. Crop subgroups. EPA did not propose to establish subgroups in Spice Crop Group 26. One comment was supportive of not establishing crop subgroups since establishing subgroups would require submission of additional field trial data in order to establish a tolerance for the entire group. As with the proposal, the final rule does not establish subgroups for Spice Crop Group 26. As explained below, EPA will consider establishing individual tolerances for multiple spices based on extrapolations of submitted monitoring data to other spices on a case-by-case basis, using Codex spice subgroups as a reference for grouping spices based on various similarities (Ref. 6).

D. Revisions to 40 CFR 180.40(j)

No comments were submitted on the proposed revisions to 40 CFR180.40(j); thus, EPA adopts its proposal without change.

E. Other Comments and EPA Responses

This section summarizes comments that did not specifically relate to the categories in Unit III.A. through III.D. and provides EPA's responses to those comments.

Comment: Monitoring data. ASTA generally supported EPA's practice of allowing the use of monitoring data to support the establishment of tolerances for imported spices and requested guidance on how that practice would work. ASTA requested clarification on whether monitoring data for the representative commodities of dill, seed or celery, seed for Crop Group 26 could be used to establish import tolerances for the entire crop group. Moreover, ASTA requested that EPA allow the use of monitoring data on any spice to establish a tolerance for the entire crop group. Finally, ASTA requested that EPA extend the policy for use of monitoring data to allow for the establishment of the Herb Group 25 tolerances.

EPA response: At this time, EPA does not support establishing entire crop group tolerances or subgroup tolerances based only on monitoring data for the representative commodities, due to the difficulty in ensuring that all commodities within the group (including both imported and domestically grown crops) would have residues represented by the monitoring data. Tolerances based on monitoring data may not be high enough to reflect the residues of commodities leaving the gate of U.S. growers. The field trial data will better represent the residues likely to be on the crops at harvest.

EPA disagrees that it will be difficult to obtain field trial data for the representative commodities for the Herb Group 25 and Spice Group 26. EPA has selected representative commodities for the Herb Group 25 and Spice Group 26 that are grown in the United States, in accordance with the Agency's practice of selecting representative commodities. Because dill seed and celery seed are grown in the United States and pesticides used on these crops will need U.S. registrations, EPA believes it is reasonable to expect field trial data to be generated to support these registrations and tolerances. Selecting crops grown in significant quantities in the United States as representative commodities makes it easier to obtain field trial data and thus obtain the crop group tolerances. This is supported by the strong history of tolerances being established for basil and mint (domestically grown crops and the representative commodities for the Herb Group 25) but not for black pepper (not grown domestically and one of the current representative commodities for Spice Subgroup 19B), indicating stronger economic support for conducting field trials on these commodities.

EPA also does not believe that is appropriate to allow the use of monitoring data for any spice to support the establishment of a tolerance for the entire Spice Group 26, which would essentially recognize any spice within the crop group as a potential representative commodity. EPA's Spice Group 26 contains a wide range of spices with different characteristics, and EPA is not aware of widespread monitoring data on spices that supports the broad extrapolation from one spice to nearly 200 spices. As indicated in 40 CFR 180.40(d), EPA may allow the use of residue data on an alternative representative commodity that is determined to be a suitable substitute (e.g., limes for lemons), but that decision is typically made on a case-by-case basis. In any event, EPA reiterates the concern that monitoring data alone may not be sufficient to support an entire crop group tolerance due to the wide range of crops in a crop group and the very likely potential for some of those crops to be grown domestically. EPA intends to continue allowing the use of monitoring data to support the establishment of individual tolerances for imported spices. EPA considers this practice to be reasonable in light of the special circumstances of the spice market. First, spices are primarily grown outside the United States. Second, spices are often inter-cropped with a primary crop, with pesticide treatments being based on the pest pressures on the primary crop. Third, spice production by a single grower is usually very small. Since the output from multiple growers is comingled prior to the spice entering international trade, tracing residues back to a grower or field is not possible. For these reasons, it is unlikely that adequate field trial data can be obtained for spices. Furthermore, unlike domestically grown produce, where field trials represent residues at the time commodities enter U.S. commerce, residues on imported spices at the point that they enter U.S. commerce are best represented by monitoring data. Therefore, the Agency has determined that it is appropriate to allow using monitoring residue data for the purpose of establishing import tolerances (i.e., pesticide tolerances for which there is no corresponding domestic registered uses) for individual spice commodities, including the spice for which monitoring data are available and similar spices.

This approach allows EPA to make these determinations on a case-by-case basis using the specific monitoring data for the specific spice, which is a more scientifically sound approach. Assessing these tolerances on an individual basis allows EPA to consider the merits of the individual request for a tolerance on imported spices and the sufficiency of the submitted monitoring data to cover the request for one or more imported spice commodities. While individual tolerance decisions will be made on a case-by-case basis as petitions are submitted, EPA expects that some monitoring data may be acceptable as support for individual tolerances for imported spices or for extrapolation to certain related spices. For example, if a petitioner requested a tolerance for residues of a pesticide on an imported spice and submitted monitoring data for that specific compound-spice combination, EPA would evaluate the sufficiency of that submitted monitoring data to support the individual tolerance; when appropriate and safe under the FFDCA, a tolerance could be established for residues of that compound, without a U.S. registration, in/on that specific spice commodity. Similarly, a petitioner could submit a petition requesting tolerances for multiple related or similar imported spices (e.g., spices contained within the same Codex spice subgroup (Ref. 6), based on physical characteristics or plant parts), along with monitoring data for a specific compound-spice combination. EPA will determine whether the submitted monitoring data is sufficiently robust to support the tolerances for the multiple spices requested. In evaluating whether the monitoring data submitted to EPA is sufficiently robust to support the tolerance for imported spices, EPA intends to follow the same analysis as laid out in the Food and Agriculture Organization (FAO) of the United Nations guidance (Ref. 7; e.g., at least 59 samples with quantifiable residues, upper percentile calculation, etc.).

This approach allows flexibility in establishing import tolerances and avoids trade barriers for international growers using available monitoring data. This approach is also consistent with the approach used by Codex, which allows monitoring data on a particular spice to support a maximum residue level (MRL) for the specific spice subgroup that includes that spice.

Comment: Establish default tolerances to address inadvertent residues caused by drift. A commenter requested that EPA establish minimal (default) tolerances to account for pesticide drift, which can result in trace residues of compounds that are not labeled for a specific crop. This commenter pointed out that there are currently 52 tolerances for mint “tops” in the United States compared to 490 MRLs in the EU for basil and edible flowers, which includes mint leaves. This commenter also asked EPA to consider the global food supply chain and the impact of increased testing in the future. This commenter urged EPA and/or the FDA to consider implementing minimal (or default) tolerances for trace levels of pesticides.

EPA response. Unlike some countries and regions, EPA's laws and regulations do not automatically establish default tolerances. Section 408(b)(2)(A)(i) of FFDCA allows EPA to establish a tolerance only if EPA determines that the tolerance is “safe.” Therefore, EPA must actively make this determination for every new tolerance that is established. Section 408(b)(2)(A)(ii) of FFDCA defines “safe” to mean that “there is a reasonable certainty that no harm will result from aggregate exposure to the pesticide chemical residue, including all anticipated dietary exposures and all other exposures for which there is reliable information.” In making this determination, EPA includes exposure through drinking water and in residential settings but does not include occupational exposure and gives special consideration to exposure of infants and children.

EPA's ability to determine safety is informed by both the hazard of the specific pesticide chemical residues at issue and the likely exposure to the pesticide residue. Because of the variability of hazard among various pesticides and without knowing likely exposures upon which to base a specific tolerance value, it is difficult to justify an a priori safety finding for all potential inadvertent residues on all herbs and spices in the crop groups. Moreover, without information about the magnitude of the residues associated with these likely exposures, it may be difficult to set a tolerance for such residues that would not result in exceedances for commodities being shipped in interstate commerce. While the Agency has authority to establish tolerances on its own initiative, EPA typically establishes tolerances in response to a petition requesting that such tolerances be established, as the submission of such a tolerance petition indicates a need or desire for such a tolerance and is submitted with data to support the establishment of such tolerances. For EPA to undertake the type of blanket tolerances for an undefined list of herbs for an undefined range of potential inadvertent pesticide chemical residues would represent a significant investment of resources that may not be aligned with need. The additional work for new Agency-initiated actions would utilize resources that are otherwise used to implement EPA's statutory obligations under FIFRA, including the Pesticide Registration Improvement Act, and the FFDCA.

Comment: Small serving size. The Agency received two comments requesting that EPA consider the small serving sizes of herbs and spices when establishing tolerances.

EPA response. EPA recognizes that these foods are a trivial part of the diet; however, tolerances for residues are needed for all commodities to allow them to be in trade, regardless of their consumption. Additionally, EPA's dietary exposure risk assessment accounts for the relatively small consumption amounts, as reflected in serving sizes, of herbs and spices when determining whether aggregate exposure to the pesticide is considered safe under FFDCA. More specifically, EPA uses food consumption information collected in national surveys by other federal agencies to estimate pesticide exposure to various food commodities, including herbs and spices.

Comment: Harmonization. An additional comment suggested that the Agency compare EPA tolerances to EU, Codex, and other international standards while in the process of developing new crop groupings or revising existing crop group pesticide residue tolerances.

EPA response. EPA considers Codex crop groups when revising the existing U.S. crop groups in 40 CFR part 180. EPA attempts to minimize differences within and among the United States and Codex crop groups and to develop representative commodities for each group that will be acceptable on an international basis, which could lead to the increased harmonization of tolerances and MRL recommendations.

In making individual tolerance decisions, including tolerances for crop groups, EPA seeks to harmonize U.S. tolerances with international standards whenever possible, consistent with U.S. food safety standards and agricultural practices. EPA considers the international MRLs established by Codex as required by FFDCA section 408(b)(4), and often also considers the MRLs established by other countries and the European Union (EU). EPA may establish a tolerance that is different from a Codex MRL; however, FFDCA section 408(b)(4) requires that EPA explain the reasons for departing from the Codex level.

Comment: Automatic conversion or expansion to new crop groups. One commenter requested that EPA convert all existing tolerances on dill, seed to Herb Crop Group 25 tolerances and all current tolerances on Herb and Spices Crop Group 19 and its subgroups 19A and 19B to Herb Crop Group 25 and Spice Crop Group 26, respectively. The commenter noted that the proposal states EPA “will convert tolerances for any pre-existing crop groups to tolerances with the coverage of the new crop group.”

EPA response. Established tolerances cannot be automatically expanded under current law and regulations. Conversion of a tolerance from a crop to a crop group or from an “old” crop group to a “new” crop group requires EPA to revise the dietary risk assessment to reflect all of the commodities in the new crop group, provide public notice that we are revising the tolerance, and issue a rulemaking to modify the existing tolerances in 40 CFR part 180. To the extent that commenter is requesting that EPA convert existing tolerances to the new crop groups in this final rule, EPA cannot undertake that action here since the safety of such tolerances have not been assessed and public notice of such action has not been provided. Such a request is beyond the scope of what was proposed and of this rulemaking. The FFDCA authorizes two processes for initiating rulemaking to convert existing tolerances and crop groups or subgroups to new crop groups or subgroups: Through a petition filed with EPA under section 408(d) of the FFDCA or through an Agency-initiated action under section 408(e). Upon receipt of a 408(d) petition requesting conversion of existing tolerances to crop groups or subgroups or of existing groups to the new groups, EPA will make such conversions upon a determination that the new tolerances would be safe. In addition, as indicated in Unit V., EPA intends to initiate tolerance rulemakings to update crop groups wherever appropriate during registration review.

IV. The Final Rule

As discussed in Unit III, EPA is adding some additional commodities to the crop groupings based on information provided by public comments and revising a limited number of common names in order to capture the most well-established and common names. EPA is otherwise finalizing the rule as proposed and based on the rationales set forth in the proposed rule.

V. Implementation

When an existing crop group is amended in a manner that expands or contracts its coverage of commodities, EPA will retain the pre-existing crop group in 40 CFR 180.41 and either insert the revised crop group immediately after the pre-existing crop group in 40 CFR 180.41 with a revised title or create new crop groups, like in this rulemaking.

As noted in 40 CFR 180.40(j), EPA will initially retain pre-existing crop groups that have been superseded by revised crop groups. EPA will not establish new tolerances under the pre-existing groups. Further, EPA plans to eventually convert tolerances for any pre-existing crop group to tolerances with coverage under the revised crop group. This conversion will occur through the registration review process and in the course of evaluating new uses for a pesticide registration. EPA requests that petitioners for tolerances utilize updated crop groupings in their petitions. For existing petitions for which a Notice of Filing has been published, the Agency will attempt to conform these petitions to this rule.

VI. References

The following is a listing of the documents that are specifically referenced in this document. The docket includes these documents as well as other information considered by EPA, including documents that are referenced within the documents that are included in the docket, even if the referenced document is not physically located in the docket. For assistance in locating these other documents, please consult the person listed under FOR FURTHER INFORMATION CONTACT.

1. EPA (2020). United States Environmental Protection Agency, Burden Reduction from the Expansion of Crop Grouping Program, prepared by the Biological and Economic Analysis Division, Office of Pesticide Programs, August 3, 2020.

2. EPA (2017). Schneider, Bernard A. EPA Memorandum: Crop Grouping—Part XVB: Analysis of the USDA IR-4 Petition to Amend the Crop Group Regulation 40 CFR 180.41(c)(26) and Commodity Definitions [40 CFR 180.1(g)] Related to Crop Group 19 Herb and Spice Group. Emphasis on New Herb Crop Group 25. June 8, 2015. Updated March 21, 2017.

3. EPA (2017). Schneider, Bernard A. EPA Memorandum: Crop Grouping—Part XVC: Analysis of the USDA IR-4 Petition to Amend the Crop Group Regulation 40 CFR 180.41(c)(26) and Commodity Definitions [40 CFR 180.1(g)] Related to Crop Group 19 Herb and Spice Group. Emphasis on New Spice Crop Group 26. August 21, 2015. Updated March 20, 2017.

4. EPA (2015). Schneider, Bernard A. EPA Memorandum: Crop Grouping—Part XVD: Appendices for the Analysis of the USDA IR-4 Petition to Amend the Crop Group Regulation 40 CFR 180.41(c)(26) and Commodity Definitions [40 CFR 180.1(g)] Related to Herb Crop Group 25 and Spice Crop Group 26. June 15, 2015.

5. EPA (2020). United States Environmental Protection Agency, Response to Tables from the AHPA comments.

6. Codex Committee on Pesticide Residues (CCPR), 2018. REP18/PR. Report of the 50th Session of the CCPR, Haikou, P.R. China, 9-14 April 2018. Agenda Item 7b: Revision of the Classification of Food and Feed (CXM 4-1989): Class A—Primary Commodities of Plant Origin—Type 05 Herbs and Spices, paras. 119-120 and Appendix VIII. See page 10 for paragraphs 119-120 and pages 63-83 for Appendix VIII.

7. FAO Plant Production and Protection Paper No. 225. Manual on the submission and evaluation of pesticide residues data for the estimation of maximum residue levels in food and feed., Section 5.11, page 103ff. [http://www.fao.org/3/a-i5452e.pdf]. For further elaboration on specific details, see FAO Plant Production and Protection Paper No. 223. Pesticide residues in food 2015 Report of the Joint FAO/WHO Meeting on Pesticide Residues, page 335ff. http://www.fao.org/3/a-i5186e.pdf.

VII. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review under Executive Orders 12866 (58 FR 51735; October 4, 1993) and 13563 (76 FR 3821, January 21, 2011).

B. Executive Order 13771: Reducing Regulations and Controlling Regulatory Costs

This action is considered an Executive Order 13771 deregulatory action. Details on the estimated cost savings of this final rule are summarized in Unit I.E. and can be found in EPA's analysis of the potential costs and benefits associated with this action (Ref. 1).

C. Paperwork Reduction Act (PRA)

This action does not impose any new information collection requirements that would require additional review or approval by OMB under the provisions of PRA, 44 U.S.C. 3501 et seq. However, this action is expected to reduce potential future paperwork burdens associated with seeking a tolerance. These crop groupings will enhance our ability to conduct food safety evaluations on herb and spice crops for tolerance-setting purpose; allowing for tolerances to be established for the defined crop groups rather than individually for each crop. This action will also have the effect of reducing the number of residue chemistry studies because fewer representative crops would need to be tested under a crop grouping scheme than would otherwise be required.

D. Regulatory Flexibility Act (RFA)

I certify that this action will not have a significant economic impact on a substantial number of small entities under the RFA, 5 U.S.C. 601 et seq. In making this determination, the impact of concern is any significant adverse economic impact on small entities. An agency may certify that a rule will not have a significant economic impact on a substantial number of small entities if the rule relieves regulatory burden, has no net burden or otherwise has a positive economic effect on the small entities subject to the rule (Ref. 1).

This final action provides regulatory relief and regulatory flexibility. The new crop groups ease the process for pesticide manufacturers to obtain pesticide tolerances on greater numbers of crops. Pesticides will be more widely available to growers for use on crops, particularly specialty crops. Rather than having any adverse impact on small businesses, this proposal would relieve regulatory burden for all directly regulated small entities. We have therefore concluded that this action will relieve regulatory burden for all directly regulated small entities.

E. Unfunded Mandates Reform Act (UMRA)

This action does not contain any unfunded mandate as described in UMRA, 2 U.S.C. 1531-1538, and does not significantly or uniquely affect small governments. This action imposes no enforceable duty on any state, local or tribal governments or the private sector.

F. Executive Order 13132: Federalism

This action does not have federalism implications as specified in Executive Order 13132 (64 FR 43255, August 4, 1999). It will not have substantial direct effects on the states, on the relationship between the national government and the states, or on the distribution of power and responsibilities among the various levels of government.

G. Executive Order 13175: Consultation and Coordination With Indian Tribal Governments

This action does not have tribal implications as specified in Executive Order 13175 (62 FR 19985, April 23, 1997) because it will not have any effect on tribal governments, on the relationship between the Federal Government and the Indian tribes, or on the distribution of power and responsibilities between the Federal Government and Indian tribes. Thus, Executive Order 13175 does not apply to this action.

H. Executive Order 13045: Protection of Children From Environmental Health Risks and Safety Risk

The EPA interprets Executive Order 13045 (62 FR 19885, April 23, 1997) as applying only to those regulatory actions that concern environmental health or safety risks that the EPA has reason to believe may disproportionately affect children, per the definition of “covered regulatory action” in section 2-202 of the Executive Order. This action is not subject to Executive Order 13045 because it does not concern an environmental health risk or safety risk.

I. Executive Order 13211: Actions That Significantly Affect Energy Supply, Distribution, or Use

This action is not subject to Executive Order 13211 (66 FR 28355, May 22, 2001), because it is not a significant regulatory action under Executive Order 12866.

J. National Technology Transfer and Advancement Act (NTTAA)

This action does not involve technical standards as specified in NTTAA section 12(d), 15 U.S.C. 272 note.

K. Executive Order 12898: Federal Actions To Address Environmental Justice in Minority Populations and Low-Income Populations

This action does not address human health or environmental risks or otherwise have disproportionately high and adverse human health or environmental effects on minority populations, low-income populations and/or indigenous peoples, as specified in Executive Order 12898 (59 FR 7629, February 16, 1994).

L. Congressional Review Act (CRA)

This action is subject to the CRA, 5 U.S.C. 801 et seq., and EPA will submit a rule report to each House of the Congress and to the Comptroller General of the United States. This action is not a “major rule” as defined by 5 U.S.C. 804(2).

List of Subjects in 40 CFR Part 180

Administrative practice and procedure, Commodities, Environmental protection, Pesticides and pests.

Dated: October 21, 2020.
Alexandra Dapolito Dunn,
Assistant Administrator, Office of Chemical Safety and Pollution Prevention.

Therefore, for the reasons stated in the preamble, EPA is amending 40 CFR chapter I to read as follows:

PART 180—TOLERANCES AND EXEMPTIONS FOR PESTICIDE CHEMICAL RESIDUES IN FOOD

1. The authority citation for part 180 continues to read as follows:

Authority: 21 U.S.C. 321 (q), 346a and 371.

2. In § 180.1:

a. Add alphabetically the entries for “Basil” “Flowers, edible, multiple species” and “Mint” to the table in paragraph (g).

b. Revise the entry for “Marjoram” in the table in paragraph (g).

The additions and revision read as follows:

§ 180.1 Definitions and interpretations.

* * * * *

(g) * * *

A | B
* * * * * * *
Basil (Ocimum spp.) | Basil (Ocimum basilicum L.); Basil, American (Ocimum americanum L.); Basil, Greek (Ocimum minimum L.); Basil, holy (Ocimum tenuiflorum L.); Basil, lemon (Ocimum x citriodorum Vis.); Basil, Russian (Ocimum gratissimum L.)
* * * * * * *
Flowers, edible, multiple species | Acacia blossoms (Acacia senegal (L.) Willd.); Alyssum, sweet (Lobularia maritima (L.) Desv.); Anchusa, garden (Anchusa azurea Mill.); Angelica (Angelica archangelica L.); Apricot, Japanese (Prunus mume Siebold & Zucc.); Arnica (Arnica montana L.); Arugula (Eruca sativa Mill.); Balm (Melissa officinalis L.); Banana (Musa spp.); Basil (Ocimum spp.); Begonia, tuberous (Begonia x tuberhybrida Voss); Bilimbi (Averrhoa bilimbi L.); Bisnaga (Ammi visnaga (L.) Lam.); Blue thistle (Centaurea benedicta (L.) L.); Borage (Borago officinalis L.); Broccoli (Brassica oleracea L. var. italica Plenck); Bugelweed (Lycopus spp.); Burnet (Sanguisorba spp.); Calendula (Calendula officinalis L.); Canadian goldenrod (Solidago canadensis L.); Caper (Capparis spinosa L.); Carambola (Averrhoa carambola L.); Carnation (Dianthus caryophyllus L.); Celandine, greater (Chelidonium majus L.); Chamomile (Chamaemelum spp. and Matricaria spp.); Chaparral (Larrea tridentata (DC.) Coville); Chervil (Anthriscus cerefolium (L.) Hoffm.); Chicory (Cichorium intybus L.); Chive, Chinese (Allium tuberosum Rottler ex Spreng.); Chrysanthemum (Chrysanthemum spp.); Clary (Salvia sclarea L.); Cleavers (Galium aparine L); Clove (Syzygium aromaticum (L.) Merr. & L. M. Perry); Clover, red (Trifolium pratense L.); Coriander/Cilantro (Coriandrum sativum L.); Cornflower (Centaurea cyanus L.); Costmary (Tanacetum balsamita L. subsp. balsamita); Daisy, English (Bellis perennis L.); Dames rocket (Hesperis matronalis L.); Damiana (Turnera diffusa Willd); Dandelion (Taraxacum officinale F. H. Wigg. aggr.); Daylily (Hemerocallis fulva (L.) L.); Dill (Anethum graveolens L.); Elder (Sambucus nigra L.); Eyebright (Euphrasia spp.); Feijoa (Acca sellowiana (O. Berg) Burret); Fennel (common) (Foeniculum vulgare Mill. subsp. vulgare var. vulgare); Frangipani (Plumeria rubra L.); Fuchsia (Fuchsia spp.); Gardenia (Gardenia jasminoides J. Ellis); Geranium (Pelargonium spp.); Geranium, lemon (Pelargonium crispum (P.J. Bergius) L'Her.); Geranium, rose (Pelargonium graveolens L'Hér.); Ginger, white (Hedychium coronarium J. Koenig); Gladiolus (Gladiolus spp.); Greater periwinkle (Vinca major L.); Hawthorn (Crataegus monogyna Jacq. Crataegus spp.); Hibiscus (Hibiscus spp.); Hibiscus, Chinese (Hibiscus rosa-sinensis L.); Hollyhock (Alcea rosea L.); Honeysuckle, Japanese (Lonicera japonica Thunb.); Horehound (Marrubium vulgare L.); Hyssop (Hyssopus officinalis L.); Hyssop, anise (Agastache foeniculum (Pursh) Kuntze); Impatiens (Impatiens walleriana Hook. f.); Jasmine, Arabian (Jasminum sambac (L.) Aiton); Kewra (Pandanus fascicularis Lam.); Lavender (Lavandula angustifolia Mill.); Lemon (Citrus limon (L.) Burm. f.); Lilac (Syringa vulgaris L.); Lily (Lilium spp.); Lily, mariposa (Calochortus gunnisonii S. Watson); Lily, sego (Calochortus nuttallii Torr. & A. Gray); Lotus (Nelumbo nucifera Gaertn.); Lovage (Levisticum officinale W. D. J. Koch); Mallow, high (Malva sylvestris L.); Marigold (Tagetes spp.); Marjoram (Origanum spp.); Meadowsweet (Filipendula ulmaria (L.) Maxim.); Mint (Mentha spp.); Mioga (Zingiber mioga (Thunb.) Roscoe); Monarda (Monarda spp.); Motherwort (Leonurus cardiaca L.); Mullein (Verbascum thapsus L., Verbascum spp.); Mustard (Brassica spp. and Sinapis spp.); Nasturtium (Tropaeolum spp.); Okra (Abelmoschus esculentus (L.) Moench); Orange, bitter (Citrus aurantium L.); Passion flower (Passiflora spp.); Pea blossoms (Pisum sativum L. subsp. sativum var. sativum); Peach (Prunus persica (L.) Batsch var. persica); Peony, common (Paeonia officinalis L.); Perilla (Perilla frutescens (L.) Britton); Petunia (Petunia x hybrida hort. ex E. Vilm.); Primrose (Primula vulgaris Huds.); Puget sound gumweed (Grindelia integrifolia DC.); Purslane, winter (Claytonia perfoliata Donn ex Willd.); Radish (Raphanus sativus L.); Redbud (Cercis canadensis L.); Rose (Rosa spp.); Rosemary (Rosmarinus officinalis L.); Rose-of-Sharon ((Hibiscus syriacus L.); Runner bean, scarlet (Phaseolus coccineus L.); Safflower (Carthamus tinctorius L.); Sage (Salvia officinalis L.); Sage, pineapple (Salvia elegans); Savory, summer (Satureja hortensis L.); Saxifrage, burnet (Pimpinella saxifraga L.); Scotch broom (Cytisus scoparius (L.) Link ); Shepherd's purse (Capsella bursa-pastoris (L.) Medik.); Snapdragon (Antirrhinum majus L.); Sorrel, garden (Rumex acetosa L.); Sorrel, wood (Oxalis acetosella L.); Spilanthes (Blainvillea acmella (L.) Philipson); Squash (Cucurbita spp.); Stock, gillyflower (Matthiola incana (L.) W. T. Aiton); Stoneroot (Collinsonia canadensis L.); Sunflower (Helianthus annuus L.); Sweet william (Dianthus barbatus L.); Sweet wormwood (Artemisia annua L.); Thyme (Thymus vulgaris L.); Tuberose (Polianthes tuberosa L.); Tulip (Tulipa spp.); Verbena, blue (Verbena hastate L.); Verbena, lemon (Aloysia citrodora Palau); Violet (Viola spp.); Wormwood (Artemisia absinthium L); Yarrow (Achillea millefolium L.); Yucca (Yucca spp.); and other edible flowers.
* * * * * * *
Marjoram (Origanum spp.) | Marjoram (Origanum spp.); Marjoram, pot (Origanum onites L.); Marjoram, sweet (Origanum majorana L.); Oregano (Origanum vulgare L.)
* * * * * * *
Mint (Mentha spp.) | Mint (Mentha spp.); Applemint (Mentha suaveolens Ehrh.); Horsemint (Mentha longifolia (L.) Huds.); Mint, corn (Mentha arvensis L.); Peppermint (Mentha. x piperita L.); Spearmint, (Mentha spicata L.); Spearmint, Scotch (Mentha x gracilis Sole); Watermint (Mentha aquatica L.); Pennyroyal (Mentha pulegium L.)
* * * * * * *

* * * * *

3. Amend § 180.40 by revising paragraph (j) to read as follows:

§ 180.40 Tolerances for crop groups.

* * * * *

(j)(1) When EPA amends a crop group in a manner that expands or contracts the commodities that are covered by the group, EPA will initially retain the pre-existing as well as the revised crop group in the CFR.

(2) Where the revised crop group has the same number as the pre-existing crop group, the revised crop group number will be followed by a hyphen and the final two digits of the year in which it was established (e.g., if Crop Group 1 is amended in 2007, the revised group will be designated as Crop Group 1-07). If the pre-existing crop group had crop subgroups, these subgroups will be numbered in a similar fashion in the revised crop group. The name of the revised crop group will not be changed from the pre-existing crop group unless the revision so changes the composition of the crop group that the pre-existing name is no longer accurate.

(3) Where EPA amends a crop group by creating one or more different crop groups, the revised crop groups will have different numbers and names (e.g., the amendment of Crop Group 19 through the creation of Crop Groups 25 and 26). The pre-existing crop group will be amended to identify the revised crop group(s).

(4) Once a revised crop group is established, EPA will no longer establish tolerances under the pre-existing crop group. At appropriate times, EPA will amend tolerances for crop groups that have been superseded by revised crop groups to conform the pre-existing crop group to the revised crop group. Once all of the tolerances for the pre-existing crop group have been updated, the pre-existing crop group will be removed from the CFR.

* * * * *

4. In § 180.41:

a. Add a paragraph (c)(28)(iv) after table 2 in paragraph (c)(28)(iii).

b. Add paragraphs (c)(34) and (35).

The additions read as follows:

§ 180.41 Crop group tables.

* * * * *

(c) * * *

(28) * * *

* * * * *

(iv) After November 6, 2020, new herb crop group and subgroup tolerances will be established as Crop Group 25 or subgroups 25A and 25B, and new spice crop group tolerances will be established as Crop Group 26.

* * * * *

(34) Crop Group 25. Herb Group.

(i) Representative commodities. Basil, dried leaves; Basil, fresh leaves; Mint, dried leaves; and Mint, fresh leaves.

(ii) Commodities. The following Table 1 lists all commodities included in Crop Group 25 and identifies the related crop subgroups.

Table 1—Crop Group 25: Herb Group
Commodities | Related crop subgroup
Agrimony, fresh leaves, Agrimonia eupatoria L | 25A
Agrimony, dried leaves, Agrimonia eupatoria L | 25B
Amla, fresh leaves, Phyllanthus amarus Schumach | 25A
Amla, dried leaves, Phyllanthus amarus Schumach | 25B
Angelica, fresh leaves, Angelica archangelica L | 25A
Angelica, dried leaves, Angelica archangelica L | 25B
Angelica, dahurian, fresh leaves, Angelica dahurica (Hoffm.) Benth & Hook. F. ex Franch. & Sav | 25A
Angelica, dahurian, dried leaves, Angelica dahurica (Hoffm.) Benth & Hook. F. ex Franch. & Sav | 25B
Applemint, fresh leaves, Mentha suaveolens Ehrh | 25A
Applemint, dried leaves, Mentha suaveolens Ehrh | 25B
Avarum, fresh leaves, Senna auriculata (L.) Roxb | 25A
Avarum, dried leaves, Senna auriculata (L.) Roxb | 25B
Balloon pea, fresh leaves, Lessertia frutescens (L.) Goldblatt & J. C. Manning | 25A
Balloon pea, dried leaves, Lessertia frutescens (L.) Goldblatt & J. C. Manning | 25B
Balm, fresh leaves, Melissa officinalis L | 25A
Balm, dried leaves, Melissa officinalis L | 25B
Barrenwort, fresh leaves, Epimedium grandiflorum C. Morren | 25A
Barrenwort, dried leaves, Epimedium grandiflorum C. Morren | 25B
Basil, fresh leaves, Ocimum basilicum L | 25A
Basil, dried leaves, Ocimum basilicum L | 25B
Basil, American, fresh leaves, Ocimum americanum L | 25A
Basil, American, dried leaves, Ocimum americanum L | 25B
Basil, Greek, fresh leaves, Ocimum minimum L | 25A
Basil, Greek, dried leaves, Ocimum minimum L | 25B
Basil, holy, fresh leaves, Ocimum tenuiflorum L | 25A
Basil, holy, dried leaves, Ocimum tenuiflorum L | 25B
Basil, lemon, fresh leaves, Ocimum x citriodorum Vis | 25A
Basil, lemon, dried leaves, Ocimum x citriodorum Vis | 25B
Basil, Russian, fresh leaves, Ocimum gratissimum L | 25A
Basil, Russian, dried leaves, Ocimum gratissimum L | 25B
Bay, fresh leaves, Laurus nobilis L | 25A
Bay, dried leaves, Laurus nobilis L | 25B
Bearberry, fresh leaves, Arctostaphylos uva ursi (L.) Spreng | 25A
Bearberry, dried leaves, Arctostaphylos uva ursi (L.) Spreng | 25B
Bisongrass, fresh leaves, Anthoxanthum nitens (Weber) Y. Schouten & Veldkamp | 25A
Bisongrass, dried leaves, Anthoxanthum nitens (Weber) Y. Schouten & Veldkamp | 25B
Blue mallow, fresh leaves, Malva sylvestris L | 25A
Blue mallow, dried leaves, Malva sylvestris L | 25B
Boneset, fresh leaves, Eupatorium perfoliatum L | 25A
Boneset, dried leaves, Eupatorium perfoliatum L | 25B
Borage, fresh leaves, Borago officinalis L | 25A
Borage, dried leaves, Borago officinalis L | 25B
Borage, Indian, fresh leaves, Plectranthus amboinicus (Lour.) Spreng | 25A
Borage, Indian, dried leaves, Plectranthus amboinicus (Lour.) Spreng | 25B
Burnet, fresh leaves, Sanguisorba spp | 25A
Burnet, dried leaves, Sanguisorba spp | 25B
Burnet, garden, fresh leaves, Sanguisorba officinalis L | 25A
Burnet, garden, dried leaves, Sanguisorba officinalis L | 25B
Burnet, salad, fresh leaves, Sanguisorba minor Scop | 25A
Burnet, salad, dried leaves, Sanguisorba minor Scop | 25B
Butterbur, fresh leaves, Petasites hybridus (L.) G. Gaertn. Et al., P. frigidus (L.) Fr | 25A
Butterbur, dried leaves, Petasites hybridus (L.) G. Gaertn. Et al., P. frigidus (L.) Fr | 25B
Calamint, fresh leaves, Clinopodium spp | 25A
Calamint, dried leaves, Clinopodium spp | 25B
Calamint, large-flower, fresh leaves, Clinopodium grandiflorum (L.) Kuntze | 25A
Calamint, large-flower, dried leaves, Clinopodium grandiflorum (L.) Kuntze | 25B
Calamint, lesser, fresh leaves, Clinopodium nepeta (L.) Kuntze | 25A
Calamint, lesser, dried leaves, Clinopodium nepeta (L.) Kuntze | 25B
Calendula, fresh leaves, Calendula officinalis L | 25A
Calendula, dried leaves, Calendula officinalis L | 25B
Caltrop, fresh leaves, Tribulus terrestris L | 25A
Caltrop, dried leaves, Tribulus terrestris L | 25B
Camomile (Chamomile), fresh leaves, Chamaemelum spp. and Matricaria spp | 25A
Camomile (Chamomile), dried leaves, Chamaemelum spp. and Matricaria spp | 25B
Camomile (Chamomile), German, fresh leaves, Matricaria recutita L | 25A
Camomile (Chamomile), German, dried leaves, Matricaria recutita L | 25B
Camomile (Chamomile), Roman, fresh leaves, Chamaemelum nobile (L.) All | 25A
Camomile (Chamomile), Roman, dried leaves, Chamaemelum nobile (L.) All | 25B
Caraway, fresh leaves, Carum carvi L | 25A
Caraway, dried leaves, Carum carvi L | 25B
Cat's claw, fresh leaves, Uncaria tomentosa (Willd.) DC., U. guianensis (Aubl.) J. F. Gmel | 25A
Cat's claw, dried leaves, Uncaria tomentosa (Willd.) DC., U. guianensis (Aubl.) J. F. Gmel | 25B
Catnip, fresh leaves, Nepeta cataria L | 25A
Catnip, dried leaves, Nepeta cataria L | 25B
Catnip, Japanese, fresh leaves, Schizonepeta multifida (L.) Briq | 25A
Catnip, Japanese, dried leaves, Schizonepeta multifida (L.) Briq | 25B
Celandine, greater, fresh leaves, Chelidonium majus L | 25A
Celandine, greater, dried leaves, Chelidonium majus L | 25B
Celandine, lesser, fresh leaves, Ficaria verna Huds | 25A
Celandine, lesser, dried leaves, Ficaria verna Huds | 25B
Celery, dried leaves, Apium graveolens L. var. dulce (Mill.) DC | 25B
Centaury, fresh leaves, Centaurium erythrarae Rafn | 25A
Centaury, dried leaves, Centaurium erythrarae Rafn | 25B
Chaste tree, fresh leaves, Vitex agnus-castus L | 25A
Chaste tree, dried leaves, Vitex agnus-castus L | 25B
Chaste tree, Chinese, fresh leaves, Vitex negundo L | 25A
Chaste tree, Chinese, dried leaves, Vitex negundo L. | 25B
Chervil, dried leaves, Anthriscus cerefolium (L.) Hoffm | 25B
Chinese blackberry, fresh leaves, Rubus stipulates L.H. Bailey | 25A
Chinese blackberry, dried leaves, Rubus stipulates L.H. Bailey | 25B
Chinese foxglove, fresh leaves, Rehmannia glutinosa (Gaertn.) Steud | 25A
Chinese foxglove, dried leaves, Rehmannia glutinosa (Gaertn.) Steud | 25B
Chive, dried leaves, Allium schoenoprasum L | 25B
Chive, Chinese, dried leaves, Allium tuberosum Rottler ex Spreng | 25B
Cicely, sweet, fresh leaves, Myrrhis odorata (L.) Scop | 25A
Cicely, sweet, dried leaves, Myrrhis odorata (L.) Scop | 25B
Cilantro, dried leaves, Coriandrum sativum L | 25B
Clary, fresh leaves, Salvia sclarea L | 25A
Clary, dried leaves, Salvia sclarea L | 25B
Coriander, Bolivian, fresh leaves, Porophyllum ruderale (Jacq.) Cass | 25A
Coriander, Bolivian, dried leaves, Porophyllum ruderale (Jacq.) Cass | 25B
Coriander, Vietnamese, fresh leaves, Persicaria odorata (Lour.) Sojak | 25A
Coriander, Vietnamese, dried leaves, Persicaria odorata (Lour.) Sojak | 25B
Costmary, fresh leaves, Tanacetum balsamita L. subsp. Balsamita | 25A
Costmary, dried leaves, Tanacetum balsamita L. subsp. Balsamita | 25B
Creat, fresh leaves, Andrographis paniculata (Burm. f.) Wall. Ex Nees | 25A
Creat, dried leaves, Andrographis paniculata (Burm. f.) Wall. Ex Nees | 25B
Culantro, fresh leaves, Eryngium foetidum L | 25A
Culantro, dried leaves, Eryngium foetidum L | 25B
Curry leaf, fresh leaves, Bergera koenigii L | 25A
Curry leaf, dried leaves, Bergera koenigii L | 25B
Curryplant, fresh leaves, Helichrysum italicum (Roth) G. Don | 25A
Curryplant, dried leaves, Helichrysum italicum (Roth) G. Don | 25B
Cut leaf, fresh leaves, Prostanthera incisa R. Br | 25A
Cut leaf, dried leaves, Prostanthera incisa R. Br | 25B
Damiana, fresh leaves, Turnera diffusa Willd | 25A
Damiana, dried leaves, Turnera diffusa Willd | 25B
Dillweed, dried leaves, Anethum graveolens L | 25B
Dokudami, fresh leaves, Houttuynia cordata Thunb | 25A
Dokudami, dried leaves, Houttuynia cordata Thunb | 25B
Echinacea, fresh leaves, Echinacea angustifolia DC., Echinacea spp | 25A
Echinacea, dried leaves, Echinacea angustifolia DC., Echinacea spp | 25B
Epazote, fresh leaves, Dysphania ambrosioides (L.) Mosyakin & Clemants | 25A
Epazote, dried leaves, Dysphania ambrosioides (L.) Mosyakin & Clemants | 25B
Eucommia, fresh leaves, Eucommia ulmoides Oliv | 25A
Eucommia, dried leaves, Eucommia ulmoides Oliv | 25B
Evening primrose, fresh leaves, Oenothera biennis L | 25A
Evening primrose, dried leaves, Oenothera biennis L | 25B
Eyebright, fresh leaves, Euphrasia officinalis L. | 25A
Eyebright, dried leaves, Euphrasia officinalis L. | 25B
Fennel, common, fresh leaves, Foeniculum vulgare Mill. subsp. vulgare var. vulgare | 25A
Fennel, common, dried leaves, Foeniculum vulgare Mill. subsp. vulgare var. vulgare | 25B
Fennel, Florence, dried leaves, Foeniculum vulgare Mill. subsp. vulgare var. azoricum (Mill.) Thell | 25B
Fennel, Spanish, fresh leaves, Nigella spp | 25A
Fennel, Spanish, dried leaves, Nigella spp | 25B
Fenugreek, fresh leaves, Trigonella foenum-graecum L | 25A
Fenugreek, dried leaves, Trigonella foenum-graecum L | 25B
Feverfew, fresh leaves, Tanacetum parthenium (L.) Sch. Bip | 25A
Feverfew, dried leaves, Tanacetum parthenium (L.) Sch. Bip | 25B
Field pennycress, fresh leaves, Thlaspi arvense L | 25A
Field pennycress, dried leaves, Thlaspi arvense L | 25B
Flowers, edible, fresh, multiple species | 25A
Flowers, edible, dried, multiple species | 25B
Fumitory, fresh leaves, Fumaria officinalis L | 25A
Fumitory, dried leaves, Fumaria officinalis L | 25B
Galbanum, fresh leaves, Ferula gummosa Boiss | 25A
Galbanum, dried leaves, Ferula gummosa Boiss | 25B
Galega, fresh leaves, Galega officinalis L | 25A
Galega, dried leaves, Galega officinalis L | 25B
Gambir, fresh leaves, Uncaria gambir (W. Hunter) Roxb | 25A
Gambir, dried leaves, Uncaria gambir (W. Hunter) Roxb | 25B
Geranium, fresh leaves, Pelargonium spp. | 25A
Geranium, dried leaves, Pelargonium spp | 25B
Geranium, lemon, fresh leaves, Pelargonium crispum (P. J. Bergius) L'Her | 25A
Geranium, lemon, dried leaves, Pelargonium crispum (P. J. Bergius) L'Her | 25B
Geranium, rose, fresh leaves, Pelargonium graveolens L'Her | 25A
Geranium, rose, dried leaves, Pelargonium graveolens L'Her | 25B
Germander, golden, fresh leaves, Teucrium polium L | 25A
Germander, golden, dried leaves, Teucrium polium L | 25B
Goldenrod, European, fresh leaves, Solidago virgaurea Scop | 25A
Goldenrod, European, dried leaves, Solidago virgaurea Scop | 25B
Goldenseal, fresh leaves, Hydrastis canadensis L | 25A
Goldenseal, dried leaves, Hydrastis canadensis L | 25B
Gotu kola, fresh leaves, Centella asiatica (L.) Urb | 25A
Gotu kola, dried leaves, Centella asiatica (L.) Urb | 25B
Greater periwinkle, fresh leaves, Vinca major L | 25A
Greater periwinkle, dried leaves, Vinca major L | 25B
Guayusa, fresh leaves, Ilex guayusa Loes | 25A
Guayusa, dried leaves, Ilex guayusa Loes | 25B
Gumweed, fresh leaves, Grindelia camporum Greene | 25A
Gumweed, dried leaves, Grindelia camporum Greene | 25B
Gymnema, fresh leaves, Gymnema sylvestre (Retz.) Schult | 25A
Gymnema, dried leaves, Gymnema sylvestre (Retz.) Schult | 25B
Gypsywort, fresh leaves, Lycopus europaeus L | 25A
Gypsywort, dried leaves, Lycopus europaeus L | 25B
Hawthorn, fresh leaves, Crataegus monogyna Jacq.; Crataegus spp | 25A
Hawthorn, dried leaves, Crataegus monogyna Jacq.; Crataegus spp | 25B
Heal-all, fresh leaves, Prunella vulgaris L | 25A
Heal-all, dried leaves, Prunella vulgaris L | 25B
Hemp nettle, fresh leaves, Galeopsis segetum Neck., Galeopsis spp | 25A
Hemp nettle, dried leaves, Galeopsis segetum Neck., Galeopsis spp | 25B
Honewort, fresh leaves, Cryptotaenia canadensis (L.) DC | 25A
Honewort, dried leaves, Cryptotaenia canadensis (L.) DC | 25B
Honeybush, fresh leaves, Cyclopia genistoides (L.) R. Br | 25A
Honeybush, dried leaves, Cyclopia genistoides (L.) R. Br | 25B
Horehound, fresh leaves, Marrubium vulgare L | 25A
Horehound, dried leaves, Marrubium vulgare L | 25B
Horsemint, fresh leaves, Mentha longifolia (L.) Huds | 25A
Horsemint, dried leaves, Mentha longifolia (L.) Huds | 25B
Horsetail, fresh leaves, Equisetum arvense L, E. ttelmateia Ehrh | 25A
Horsetail, dried leaves, Equisetum arvense L, E. ttelmateia Ehrh | 25B
Hyssop, fresh leaves, Hyssopus officinalis L | 25A
Hyssop, dried leaves, Hyssopus officinalis L | 25B
Hyssop, anise, fresh leaves, Agastache foeniculum (Pursh) Kuntze | 25A
Hyssop, anise, dried leaves, Agastache foeniculum (Pursh) Kuntze | 25B
Indian tobacco, fresh leaves, Lobelia inflata L | 25A
Indian tobacco, dried leaves, Lobelia inflata L | 25B
Ironwort, fresh leaves, Sideritis scardica Griseb., Sideritis spp | 25A
Ironwort, dried leaves, Sideritis scardica Griseb., Sideritis spp | 25B
Ivy, fresh leaves, Hedera helix L | 25A
Ivy, dried leaves, Hedera helix L | 25B
Jamaica dogwood, fresh leaves, Piscidia piscipula (L.) Sarg | 25A
Jamaica dogwood, dried leaves, Piscidia piscipula (L.) Sarg | 25B
Jasmine, dried leaves, Jasminum officinale L., J. odoratissimum L | 25B
Jasmine, fresh leaves, Jasminum officinale L., J. odoratissimum L | 25A
Labrador tea, fresh leaves, Rhododendron groenlandicum (Oeder) Kron & Judd, R. tomentosum Harmaja | 25A
Labrador tea, dried leaves, Rhododendron groenlandicum (Oeder) Kron & Judd, R. tomentosum Harmaja | 25B
Lavender, fresh leaves, Lavandula angustifolia Mill | 25A
Lavender, dried leaves, Lavandula angustifolia Mill | 25B
Lemon verbena, fresh leaves, Aloysia citrodora Palau | 25A
Lemon verbena, dried leaves, Aloysia citrodora Palau | 25B
Lemongrass, fresh leaves, Cymbopogon citratus (DC.) Stapf | 25A
Lemongrass, dried leaves, Cymbopogon citratus (DC.) Stapf | 25B
Lovage, fresh leaves, Levisticum officinale W.D.J. Koch | 25A
Lovage, dried leaves, Levisticum officinale W.D.J. Koch | 25B
Love-in-a-mist, fresh leaves, Nigella damascena L | 25A
Love-in-a-mist, dried leaves, Nigella damascena L | 25B
Mamaki, fresh leaves, Pipturus arborescens (Link) C. B. Rob | 25A
Mamaki, dried leaves, Pipturus arborescens (Link) C. B. Rob | 25B
Marigold, fresh leaves, Tagetes spp | 25A
Marigold, dried leaves, Tagetes spp | 25B
Marigold, African, fresh leaves, Tagetes erecta L | 25A
Marigold, African, dried leaves, Tagetes erecta L | 25B
Marigold, Aztec, fresh leaves, Tagetes minuta L | 25A
Marigold, Aztec, dried leaves, Tagetes minuta L | 25B
Marigold, French, fresh leaves, Tagetes patula L | 25A
Marigold, French, dried leaves, Tagetes patula L | 25B
Marigold, Irish lace, fresh leaves, Tagetes filifolia Lag | 25A
Marigold, Irish lace, dried leaves, Tagetes filifolia Lag | 25B
Marigold, licorice, fresh leaves, Tagetes micrantha Cav | 25A
Marigold, licorice, dried leaves, Tagetes micrantha Cav | 25B
Marigold, Mexican mint, fresh leaves, Tagetes lucida Cav | 25A
Marigold, Mexican mint, dried leaves, Tagetes lucida Cav | 25B
Marigold, signet, fresh leaves, Tagetes tenuifolia Cav | 25A
Marigold, signet, dried leaves, Tagetes tenuifolia Cav | 25B
Marjoram, fresh leaves, Origanum spp | 25A
Marjoram, dried leaves, Origanum spp | 25B
Marjoram, pot, fresh leaves, Origanum onites L | 25A
Marjoram, pot, dried leaves, Origanum onites L | 25B
Marjoram, sweet, fresh leaves, Origanum majorana L | 25A
Marjoram, sweet, dried leaves, Origanum majorana L | 25B
Marshmallow, fresh leaves, Althaea officinalis L | 25A
Marshmallow, dried leaves, Althaea officinalis L | 25B
Meadowsweet, fresh leaves, Filipendula ulmaria (L.) Maxim | 25A
Meadowsweet, dried leaves, Filipendula ulmaria (L.) Maxim | 25B
Mint, fresh leaves, Mentha spp | 25A
Mint, dried leaves, Mentha spp | 25B
Mint, corn, fresh leaves, Mentha arvensis L | 25A
Mint, corn, dried leaves, Mentha arvensis L | 25B
Mint, Korean, fresh leaves, Agastache rugosa (Fisch. & C.A. Mey.) Kun | 25A
Mint, Korean, dried leaves, Agastache rugosa (Fisch. & C.A. Mey.) Kun | 25B
Monarda, fresh leaves, Monarda spp | 25A
Monarda, dried leaves, Monarda spp | 25B
Moringa, fresh leaves, Moringa oleifera L | 25A
Moringa, dried leaves, Moringa oleifera L | 25B
Motherwort, fresh leaves, Leonurus cardiaca L | 25A
Motherwort, dried leaves, Leonurus cardiaca L | 25B
Mountainmint, fresh leaves, Pycnanthemum spp | 25A
Mountainmint, dried leaves, Pycnanthemum spp | 25B
Mountainmint, clustered, fresh leaves, Pycnanthemum muticum (Michx.) Pers | 25A
Mountainmint, clustered, dried leaves, Pycnanthemum muticum (Michx.) Pers | 25B
Mountainmint, hoary, fresh leaves, Pycnanthemum incanum Michx | 25A
Mountainmint, hoary, dried leaves, Pycnanthemum incanum Michx | 25B
Mountainmint, Virginia, fresh leaves, Pycnanthemum virginianum (L.) T. Durand & B.D. Jacks. Ex B.L. Rob. & Fernald | 25A
Mountainmint, Virginia, dried leaves, Pycnanthemum virginianum (L.) T. Durand & B.D. Jacks. ex B.L. Rob. & Fernald | 25B
Mountainmint, whorled, fresh leaves, Pycnanthemum verticillatum (Michx.) Pers | 25A
Mountainmint, whorled, dried leaves, Pycnanthemum verticillatum (Michx.) Pers | 25B
Mugwort, fresh leaves, Artemisia vulgaris L | 25A
Mugwort, dried leaves, Artemisia vulgaris L | 25B
Mulberry, white, fresh leaves, Morus alba L | 25A
Mulberry, white, dried leaves, Morus alba L | 25B
Mullein, fresh leaves, Verbascum densiflorum Bertol., Verbascum spp | 25A
Mullein, dried leaves, Verbascum densiflorum Bertol., Verbascum spp | 25B
Mustard, hedge, fresh leaves, Sisymbrium officinale (L.) Scop | 25A
Mustard, hedge, dried leaves, Sisymbrium officinale (L.) Scop | 25B
Nasturtium, fresh leaves, Tropaeolum spp | 25A
Nasturtium, dried leaves, Tropaeolum spp | 25B
Nasturtium, bush, fresh leaves, Tropaeolum minus L | 25A
Nasturtium, bush, dried leaves, Tropaeolum minus L | 25B
Nasturtium, garden, fresh leaves, Tropaeolum majus L | 25A
Nasturtium, garden, dried leaves, Tropaeolum majus L | 25B
Nettle, stinging, fresh leaves, Urtica dioica L | 25A
Nettle, stinging, dried leaves, Urtica dioica L | 25B
Oregano, fresh leaves, Origanum vulgare L | 25A
Oregano, dried leaves, Origanum vulgare L | 25B
Oregano, Mexican, fresh leaves, Lippia graveolens Kunth | 25A
Oregano, Mexican, dried leaves, Lippia graveolens Kunth | 25B
Oregano, Puerto Rico, fresh leaves, Lippia micromera Schauer | 25A
Oregano, Puerto Rico, dried leaves, Lippia micromera Schauer | 25B
Oswego tea, fresh leaves, Monarda didyma L | 25A
Oswego tea, dried leaves, Monarda didyma L | 25B
Pandan leaf, fresh leaves, Pandanus amaryllifolius Roxb | 25A
Pandan leaf, dried leaves, Pandanus amaryllifolius Roxb | 25B
Pansy, fresh leaves, Viola tricolor L | 25A
Pansy, dried leaves, Viola tricolor L | 25B
Paracress, fresh leaves, Acmella oleracea (L.) R.K. Jansen | 25A
Paracress, dried leaves, Acmella oleracea (L.) R.K. Jansen | 25B
Parsley, dried leaves, Petroselinum crispum (Mill.) Fuss | 25B
Partridge berry, fresh leaves, Mitchella repens L | 25A
Partridge berry, dried leaves, Mitchella repens L | 25B
Patchouli, fresh leaves, Pogostemon cablin (Blanco) Benth | 25A
Patchouli, dried leaves, Pogostemon cablin (Blanco) Benth | 25B
Pennyroyal, fresh leaves, Mentha pulegium L | 25A
Pennyroyal, dried leaves, Mentha pulegium L | 25B
Pepper leaf, black, fresh leaves, Piper nigrum L | 25A
Pepper leaf, black, dried leaves, Piper nigrum L | 25B
Peppermint, fresh leaves, Mentha X piperita L | 25A
Peppermint, dried leaves, Mentha X piperita L | 25B
Perilla, fresh leaves, Perilla frutescens (L.) Britton | 25A
Perilla, dried leaves, Perilla frutescens (L.) Britton | 25B
Pill bearing spurge, fresh leaves, Euphorbia hirta L | 25A
Pill bearing spurge, dried leaves, Euphorbia hirta L | 25B
Pipsissewa, fresh leaves, Chimaphila umbellata (L.) W. P. C. Barton | 25A
Pipsissewa, dried leaves, Chimaphila umbellata (L.) W. P. C. Barton | 25B
Plantain, common, fresh leaves, Plantago major L | 25A
Plantain, common, dried leaves, Plantago major L | 25B
Rooibos, fresh leaves, Aspalathus linearis (Burm. f.) R. Dahlgren | 25A
Rooibos, dried leaves, Aspalathus linearis (Burm. f.) R. Dahlgren | 25B
Rose, fresh leaves, Rosa spp | 25A
Rose, dried leaves, Rosa spp | 25B
Rosemary, fresh leaves, Rosmarinus officinalis L | 25A
Rosemary, dried leaves, Rosmarinus officinalis L | 25B
Sage, fresh leaves, Salvia officinalis L | 25A
Sage, dried leaves, Salvia officinalis L | 25B
Sage, Greek, fresh leaves, Salvia fruticosa Mill | 25A
Sage, Greek, dried leaves, Salvia fruticosa Mill | 25B
Sage, Spanish, fresh leaves, Salvia lavandulifolia Vahl | 25A
Sage, Spanish, dried leaves, Salvia lavandulifolia Vahl | 25B
Sage, white, fresh leaves, Salvia apiana Jeps | 25A
Sage, white, dried leaves, Salvia apiana Jeps | 25B
Savory, summer, fresh leaves, Satureja hortensis L | 25A
Savory, summer, dried leaves, Satureja hortensis L | 25B
Savory, winter, fresh leaves, Satureja montana L | 25A
Savory, winter, dried leaves, Satureja montana L. | 25B
Senna, fresh leaves, Senna alexandrina Mill | 25A
Senna, dried leaves, Senna alexandrina Mill | 25B
Siberian fir, fresh leaves, Abies sibirica Ledeb | 25A
Siberian fir, dried leaves, Abies sibirica Ledeb | 25B
Skullcap, fresh leaves, Scutellaria lateriflora L | 25A
Skullcap, dried leaves, Scutellaria lateriflora L | 25B
Small flower willow head, fresh leaves, Epilobium parviflorum Schreb | 25A
Small flower willow head, dried leaves, Epilobium parviflorum Schreb | 25B
Sorrel, fresh leaves, Rumex spp | 25A
Sorrel, dried leaves, Rumex spp | 25B
Sorrel, French, fresh leaves, Rumex scutatus L | 25A
Sorrel, French, dried leaves, Rumex scutatus L | 25B
Sorrel, garden, fresh leaves, Rumex acetosa L | 25A
Sorrel, garden, dried leaves, Rumex acetosa L | 25B
Southernwood, fresh leaves, Artemisia abrotanum L | 25A
Southernwood, dried leaves, Artemisia abrotanum L | 25B
Spearmint, fresh leaves, Mentha spicata L | 25A
Spearmint, dried leaves, Mentha spicata L | 25B
Spearmint, Scotch, fresh leaves, Mentha x gracilis Sole | 25A
Spearmint, Scotch, dried leaves, Mentha x gracilis Sole | 25B
Spilanthes, fresh leaves, Blainvillea acmella (L.) Philipson | 25A
Spilanthes, dried leaves, Blainvillea acmella (L.) Philipson | 25B
Spotted beebalm, fresh leaves, Monarda punctata L | 25A
Spotted beebalm, dried leaves, Monarda punctata L | 25B
St John's Wort, fresh leaves, Hypericum perforatum L | 25A
St John's Wort, dried leaves, Hypericum perforatum L | 25B
Stevia, fresh leaves, Stevia rebaudiana (Bertoni) Bertoni | 25A
Stevia, dried leaves, Stevia rebaudiana (Bertoni) Bertoni | 25B
Stoneroot, fresh leaves, Collinsonia canadensis L | 25A
Stoneroot, dried leaves, Collinsonia canadensis L | 25B
Swamp leaf, fresh leaves, Limnophila chinensis (Osbeck) Merr | 25A
Swamp leaf, dried leaves, Limnophila chinensis (Osbeck) Merr | 25B
Tansy, fresh leaves, Tanacetum vulgare L | 25A
Tansy, dried leaves, Tanacetum vulgare L | 25B
Tarragon, fresh leaves, Artemisia dracunculus L | 25A
Tarragon, dried leaves, Artemisia dracunculus L | 25B
Thuja, fresh leaves, Thuja occidentalis L | 25A
Thuja, dried leaves, Thuja occidentalis L | 25B
Thyme, fresh leaves, Thymus spp | 25A
Thyme, dried leaves, Thymus spp | 25B
Thyme, creeping, fresh leaves, Thymus serpyllum L | 25A
Thyme, creeping, dried leaves, Thymus serpyllum L | 25B
Thyme, lemon, fresh leaves, Thymus ×citriodorus (Pers.) Schreb | 25A
Thyme, lemon, dried leaves, Thymus ×citriodorus (Pers.) Schreb | 25B
Thyme, mastic, fresh leaves, Thymus mastichina (L.) L | 25A
Thyme, mastic, dried leaves, Thymus mastichina (L.) L | 25B
Toon, Chinese, fresh leaves, Toona sinensis (A. Juss.) M. Roem | 25A
Toon, Chinese, dried leaves, Toona sinensis (A. Juss.) M. Roem | 25B
Toothed clubmoss, fresh leaves, Huperzia serrata (Thunb.) Trevis | 25A
Toothed clubmoss, dried leaves, Huperzia serrata (Thunb.) Trevis | 25B
Trailing arbutus, fresh leaves, Epigaea repens L | 25A
Trailing arbutus, dried leaves, Epigaea repens L | 25B
Vasaka, fresh leaves, Justicia adhatoda L | 25A
Vasaka, dried leaves, Justicia adhatoda L. | 25B
Verbena, blue, fresh leaves, Verbena hastata L | 25A
Verbena, blue, dried leaves, Verbena hastata L | 25B
Veronica, fresh leaves, Veronica officinalis L | 25A
Veronica, dried leaves, Veronica officinalis L | 25B
Violet, fresh leaves, Viola odorata L | 25A
Violet, dried leaves, Viola odorata L | 25B
Watermint, fresh leaves, Mentha aquatica L | 25A
Watermint, dried leaves, Mentha aquatica L | 25B
Waterpepper, fresh leaves, Persicaria hydropiper (L.) Delarbre | 25A
Waterpepper, dried leaves, Persicaria hydropiper (L.) Delarbre | 25B
Wild bergamot, fresh leaves, Monarda fistulosa L | 25A
Wild bergamot, dried leaves, Monarda fistulosa L | 25B
Wintergreen, fresh leaves, Gaultheria procumbens L | 25A
Wintergreen, dried leaves, Gaultheria procumbens L | 25B
Wood betony, fresh leaves, Stachys officinalis (L.) Trevis | 25A
Wood betony, dried leaves, Stachys officinalis (L.) Trevis | 25B
Woodruff, fresh leaves, Galium odoratum (L.) Scop | 25A
Woodruff, dried leaves, Galium odoratum (L.) Scop | 25B
Wormwood, fresh leaves, Artemisia absinthium L. | 25A
Wormwood, dried leaves, Artemisia absinthium L | 25B
Wormwood, Roman, fresh leaves, Artemisia pontica L | 25A
Wormwood, Roman, dried leaves, Artemisia pontica L | 25B
Yarrow, fresh leaves, Achillea millefolium L | 25A
Yarrow, dried leaves, Achillea millefolium L | 25B
Yellow gentian, fresh leaves, Gentiana lutea L | 25A
Yellow gentian, dried leaves, Gentiana lutea L | 25B
Yerba santa, fresh leaves, Eriodictyon californicum (Hook. & Arn.) Torr | 25A
Yerba santa, dried leaves, Eriodictyon californicum (Hook. & Arn.) Torr | 25B
Yomogi, fresh leaves, Artemisia princeps L | 25A
Yomogi, dried leaves, Artemisia princeps L | 25B
Cultivars, varieties, and hybrids of these commodities |

(iii) Crop subgroups. The following Table 2 identifies the crop subgroups for Crop Group 25, specifies the representative commodities for each subgroup, and lists all the commodities included in each subgroup.

Table 2—Crop Group 25: Subgroup Listing
Representative commodities | Commodities
Crop subgroup 25A. Herb fresh leaves subgroup
Basil, fresh leaves and mint, fresh leaves | Agrimony, fresh leaves; Amla, fresh leaves; Angelica, fresh leaves; Angelica, dahurian, fresh leaves; Applemint, fresh leaves; Avarum, fresh leaves; Balloon pea, fresh leaves; Balm, fresh leaves; Barrenwort, fresh leaves; Basil, fresh leaves; Basil, American, fresh leaves; Basil, Greek, fresh leaves; Basil, holy, fresh leaves; Basil, lemon, fresh leaves; Basil, Russian, fresh leaves; Bay, fresh leaves; Bearberry, fresh leaves; Bisongrass, fresh leaves; Blue mallow, fresh leaves; Boneset, fresh leaves; Borage, fresh leaves; Borage, Indian, fresh leaves; Burnet, fresh leaves; Burnet, garden, fresh leaves; Burnet, salad, fresh leaves; Butterbur, fresh leaves; Calamint, fresh leaves; Calamint, large-flower, fresh leaves; Calamint, lesser, fresh leaves; Calendula, fresh leaves; Caltrop, fresh leaves; Camomile (Chamomile), fresh leaves; Camomile (Chamomile), German, fresh leaves; Camomile (Chamomile), Roman, fresh leaves; Caraway, fresh leaves; Cat's claw, fresh leaves; Catnip, fresh leaves; Catnip, Japanese, fresh leaves; Celandine, greater, fresh leaves; Celandine, lesser, fresh leaves; Centaury, fresh leaves; Chaste tree, fresh leaves; Chaste tree, Chinese, fresh leaves; Chinese blackberry, fresh leaves; Chinese foxglove, fresh leaves; Cicely, sweet, fresh leaves; Clary, fresh leaves; Coriander, Bolivian, fresh leaves; Coriander, Vietnamese, fresh leaves; Costmary, fresh leaves; Creat, fresh leaves; Culantro, fresh leaves; Curry leaf, fresh leaves; Curryplant, fresh leaves; Cut leaf, fresh leaves; Damiana, fresh leaves; Dokudami, fresh leaves; Echinacea, fresh leaves; Epazote, fresh leaves; Eucommia, fresh leaves; Evening primrose, fresh leaves; Eyebright, fresh leaves; Fennel, common, fresh leaves; Fennel, Spanish, fresh leaves; Fenugreek, fresh leaves; Feverfew, fresh leaves; Field pennycress, fresh leaves; Flowers, edible, fresh; Fumitory, fresh leaves; Galbanum, fresh leaves; Galega, fresh leaves; Gambir, fresh leaves; Geranium, fresh leaves; Geranium, lemon, fresh leaves; Geranium, rose, fresh leaves; Germander, golden, fresh leaves; Goldenrod, European, fresh leaves; Goldenseal, fresh leaves; Gotu kola, fresh leaves; Greater periwinkle, fresh leaves; Guayusa, fresh leaves; Gumweed, fresh leaves; Gymnema, fresh leaves; Gypsywort, fresh leaves; Hawthorn, fresh leaves; Heal-all, fresh leaves; Hemp nettle, fresh leaves; Honewort, fresh leaves; Honeybush, fresh leaves; Horehound, fresh leaves; Horsemint, fresh leaves; Horsetail, fresh leaves; Hyssop, fresh leaves; Hyssop, anise, fresh leaves; Indian tobacco, fresh leaves; Ironwort, fresh leaves; Ivy, fresh leaves; Jamaica dogwood, fresh leaves; Jasmine, fresh leaves; Labrador tea, fresh leaves; Lavender, fresh leaves; Lemon verbena, fresh leaves; Lemongrass, fresh leaves; Lovage, fresh leaves; Love-in-a-mist, fresh leaves; Mamaki, fresh leaves; Marigold, fresh leaves; Marigold, African, fresh leaves; Marigold, Aztec, fresh leaves; Marigold, French, fresh leaves; Marigold, Irish lace, fresh leaves; Marigold, licorice, fresh leaves; Marigold, Mexican mint, fresh leaves; Marigold, signet, fresh leaves; Marjoram, fresh leaves; Marjoram, pot, fresh leaves; Marjoram, sweet, fresh leaves; Marshmallow, fresh leaves; Meadowsweet, fresh leaves; Mint, fresh leaves; Mint, corn, fresh leaves; Mint, Korean, fresh leaves; Monarda, fresh leaves; Moringa, fresh leaves; Motherwort, fresh leaves; Mountainmint, fresh leaves; Mountainmint, clustered, fresh leaves; Mountainmint, hoary, fresh leaves; Mountainmint, Virginia, fresh leaves; Mountainmint, whorled, fresh leaves; Mugwort, fresh leaves; Mulberry, white, fresh leaves; Mullein, fresh leaves; Mustard, hedge, fresh leaves; Nasturtium, fresh leaves; Nasturtium, bush, fresh leaves; Nasturtium, garden, fresh leaves; Nettle, stinging, fresh leaves; Oregano, fresh leaves; Oregano, Mexican, fresh leaves; Oregano, Puerto Rico, fresh leaves; Oswego tea, fresh leaves; Pandan leaf, fresh leaves; Pansy, fresh leaves; Paracress, fresh leaves; Partridge berry, fresh leaves; Patchouli, fresh leaves; Pennyroyal, fresh leaves; Pepper leaf, black, fresh leaves; Peppermint, fresh leaves; Perilla, fresh leaves; Pill bearing spurge, fresh leaves; Pipsissewa, fresh leaves; Plantain, common, fresh leaves; Rooibos, fresh leaves; Rose, fresh leaves; Rosemary, fresh leaves; Sage, fresh leaves; Sage, Greek, fresh leaves; Sage, Spanish, fresh leaves; Sage, white, fresh leaves; Savory, summer, fresh leaves; Savory, winter, fresh leaves; Senna, fresh leaves; Siberian fir, fresh leaves; Skullcap, fresh leaves; Small flower willow head, fresh leaves; Sorrel, fresh leaves; Sorrel, French, fresh leaves; Sorrel, garden, fresh leaves; Southernwood, fresh leaves; Spearmint, fresh leaves; Spearmint, Scotch, fresh leaves; Spilanthes, fresh leaves; Spotted beebalm, fresh leaves; St. John's Wort, fresh leaves; Stevia, fresh leaves; Stoneroot, fresh leaves; Swamp leaf, fresh leaves; Tansy, fresh leaves; Tarragon, fresh leaves; Thuja, fresh leaves; Thyme, fresh leaves; Thyme, creeping, fresh leaves; Thyme, lemon, fresh leaves; Thyme, mastic, fresh leaves; Toon, Chinese, fresh leaves; Toothed clubmoss, fresh leaves; Trailing arbutus, fresh leaves; Vasaka, fresh leaves; Verbena, blue, fresh leaves; Veronica, fresh leaves; Violet, fresh leaves; Watermint, fresh leaves; Waterpepper, fresh leaves; Wild bergamot, fresh leaves; Wintergreen, fresh leaves; Wood betony, fresh leaves; Woodruff, fresh leaves; Wormwood, fresh leaves; Wormwood, Roman, fresh leaves; Yarrow, fresh leaves; Yellow gentian, fresh leaves; Yerba santa, fresh leaves; Yomogi, fresh leaves; Cultivars, varieties, and hybrids of these commodities.
Crop subgroup 25B. Herb dried leaves subgroup
Basil, dried leaves and mint, dried leaves | Agrimony, dried leaves; Amla, dried leaves; Angelica, dried leaves; Angelica, dahurian, dried leaves; Applemint, dried leaves; Avarum, dried leaves; Balloon pea, dried leaves; Balm, dried leaves; Barrenwort, dried leaves; Basil, dried leaves; Basil, American, dried leaves; Basil, Greek, dried leaves; Basil, holy, dried leaves; Basil, lemon, dried leaves; Basil, Russian, dried leaves; Bay, dried leaves; Bearberry, dried leaves; Bisongrass, dried leaves; Blue mallow, dried leaves; Boneset, dried leaves; Borage, dried leaves; Borage, Indian, dried leaves; Burnet, dried leaves; Burnet, garden, dried leaves; Burnet, salad, dried leaves; Butterbur, dried leaves; Calamint, dried leaves; Calamint, large-flower, dried leaves; Calamint, lesser, dried leaves; Calendula, dried leaves; Caltrop, dried leaves; Camomile (Chamomile), dried leaves; Camomile (Chamomile), German, dried leaves; Camomile (Chamomile), Roman, dried leaves; Caraway, dried leaves; Cat's claw, dried leaves; Catnip, dried leaves; Catnip, Japanese, dried leaves; Celandine, greater, dried leaves; Celandine, lesser, dried leaves; Celery, dried leaves; Centaury, dried leaves; Chaste tree, dried leaves; Chaste tree, Chinese, dried leaves; Chervil, dried leaves; Chinese blackberry, dried leaves; Chinese foxglove, dried leaves; Chive, dried leaves; Chive, Chinese, dried leaves; Cicely, sweet, dried leaves; Cilantro, dried leaves; Clary, dried leaves; Coriander, Bolivian, dried leaves; Coriander, Vietnamese, dried leaves; Costmary, dried leaves; Creat, dried leaves; Culantro, dried leaves; Curry leaf, dried leaves; Curryplant, dried leaves; Cut leaf, dried leaves; Damiana, dried leaves; Dillweed, dried leaves; Dokudami, dried leaves; Echinacea, dried leaves; Epazote, dried leaves; Eucommia, dried leaves; Evening primrose, dried leaves; Eyebright, dried leaves; Fennel, common, dried leaves; Fennel, Florence, dried leaves; Fenugreek, dried leaves; Feverfew, dried leaves; Field pennycress, dried leaves; Flowers, edible, dried; Fumitory, dried leaves; Galbanum, dried leaves; Galega, dried leaves; Gambir, dried leaves; Geranium, dried leaves; Geranium, lemon, dried leaves; Geranium, rose, dried leaves; Germander, golden, dried leaves; Goldenrod, European, dried leaves; Goldenseal, dried leaves; Gotu kola, dried leaves; Greater periwinkle, dried leaves; Guayusa, dried leaves; Gumweed, dried leaves; Gymnema, dried leaves; Gypsywort, dried leaves; Hawthorn, dried leaves; Heal-all, dried leaves; Hemp nettle, dried leaves; Honewort, dried leaves; Honeybush, dried leaves; Horehound, dried leaves; Horsemint, dried leaves; Horsetail, dried leaves; Hyssop, dried leaves; Hyssop, anise, dried leaves; Indian tobacco, dried leaves; Ironwort, dried leaves; Ivy, dried leaves; Jamaica dogwood, dried leaves; Jasmine, dried leave; Labrador tea, dried leaves; Lavender, dried leaves; Lemon verbena, dried leaves; Lemongrass, dried leaves; Lovage, dried leaves; Love-in-a-mist, dried leaves; Mamaki, dried leaves; Marigold, dried leaves; Marigold, African, dried leaves; Marigold, Aztec, dried leaves; Marigold, French, dried leaves; Marigold, Irish lace, dried leaves; Marigold, licorice, dried leaves; Marigold, Mexican mint, dried leaves; Marigold, signet, dried leaves; Marjoram, dried leaves; Marjoram, sweet, dried leaves; Marshmallow, dried leaves; Meadowsweet, dried leaves; Mint, dried leaves; Mint, corn, dried leaves; Mint, Korean, dried leaves; Monarda, dried leaves; Moringa, dried leaves; Motherwort, dried leaves; Mountainmint, dried leaves; Mountainmint, clustered, dried leaves; Mountainmint, hoary, dried leaves; Mountainmint, Virginia, dried leaves; Mountainmint, whorled, dried leaves; Mugwort, dried leaves; Mulberry, white, dried leaves; Mullein, dried leaves; Mustard, hedge, dried leaves; Nasturtium, dried leaves; Nasturtium, bush, dried leaves; Nasturtium, garden, dried leaves; Nettle, stinging, dried leaves; Oregano, dried leaves; Oregano, Mexican, dried leaves; Oregano, Puerto Rico, dried leaves; Oswego tea, dried leaves; Pandan leaf, dried leaves; Pansy, dried leaves; Paracress, dried leaves; Parsley, dried leaves; Partridge berry, dried leaves; Patchouli, dried leaves; Pennyroyal, dried leaves; Pepper leaf, black, dried leaves; Peppermint, dried leaves; Perilla, dried leaves; Pill bearing spurge, dried leaves; Pipsissewa, dried leaves; Plantain, common, dried leaves; Rooibos, dried leaves; Rose, dried leaves; Rosemary, dried leaves; Sage, dried leaves; Sage, Greek, dried leaves; Sage, Spanish, dried leaves; Sage, white, dried leaves; Savory, summer, dried leaves; Savory, winter, dried leaves; Senna, dried leaves; Siberian fir, dried leaves; Skullcap, dried leaves; Small flower willow head, dried leaves; Sorrel, dried leaves; Sorrel, French, dried leaves; Sorrel, garden, dried leaves; Southernwood, dried leaves; Spearmint, dried leaves; Spearmint, Scotch, dried leaves; Spilanthes, dried leaves; Spotted beebalm, dried leaves; St. John's Wort, dried leaves; Stevia, dried leaves; Stoneroot, dried leaves; Swamp leaf, dried leaves; Tansy, dried leaves; Tarragon, dried leaves; Thuja, dried leaves; Thyme, dried leaves; Thyme, creeping, dried leaves; Thyme, lemon, dried leaves; Thyme, mastic, dried leaves; Toon, Chinese, dried leaves; Toothed clubmoss, dried leaves; Trailing arbutus, dried leaves; Vasaka, dried leaves; Verbena, blue, dried leaves; Veronica, dried leaves; Violet, dried leaves; Watermint, dried leaves; Waterpepper, dried leaves; Wintergreen, dried leaves; Wood betony, dried leaves; Woodruff, dried leaves; Wormwood, dried leaves; Wormwood, Roman, dried leaves; Yarrow, dried leaves; Yellow gentian, dried leaves; Yerba santa, dried leaves; Yomogi, dried leaves; Fennel, Spanish, dried leaves; Marjoram, pot, dried leaves; Wild bergamot, dried leaves; Cultivars, varieties, and hybrids of these commodities.

(35) Crop Group 26. Spice Group.

(i) Representative commodities. Dill seed or Celery seed.

(ii) Commodities. The following Table 3 lists all commodities included in Crop Group 26.

Table 1—Crop Group 26: Spice Group
Commodities
Ajowan, seed, Trachyspermum ammi (L.) Sprague ex Turrill.
Alder buckhorn, Frangula alnus Mill.
Allspice, Pimenta dioica (L.) Merr.
Ambrette, seed, Abelmoschus esculentus (L.) Moench.
Amla, seed, Phyllanthus amarus Schumach.
Angelica, dahurian, seed, Angelica dahurica (Hoffm.) Benth. & Hook. F. ex Franch. & Sav.
Angelica, seed, Angelica archangelica L.
Angostura, bark, Angostura trifoliata (Willd.) T. S. Elias.
Anise pepper, Zanthoxylum piperitum (L.) DC.
Anise, seed, Pimpinella anisum L.
Anise, star, Illicium verum Hook. f.
Annatto, seed, Bixa orellana L.
Asafoetida, Ferula assa-foetida L.
Ashwagandha, fruit, Withania somnifera (L.) Dunal.
Autumn crocus, Colchicum autumnale L.
Balsam, Peruvian, Myroxylon balsamum (L.) Harms var. pereirae (Royle) Harms.
Barberry, bark, Morella cerifera L.
Batavia-cassia, bark, Cinnamomum burmanni (Nees & T. Nees) Blume.
Batavia-cassia, fruit, Cinnamomum burmanni (Nees & T. Nees) Blume.
Belleric myrobalan, Terminalia bellirica (Gaertn.) Roxb.
Betel vine, Piper betle L.
Birch, bark, Betula spp.
Bisnaga, seed, Ammi visnaga (L.) Lam.
Bitterwood, Picrasma excelsa (Sw.) Planch.
Black bread weed, Nigella arvensis L.
Bloodroot, Sanguinaria canadensis L.
Blue mallee, Eucalyptus polybractea R. T. Baker.
Blushwood, seed, Fontainea picrosperma L.
Boldo, leaf, Peumus boldus Molina.
Buchu, Agathosma betulina (P. J. Bergius) Pillans.
Calamus root, Acorus calamus L.
Candlebush, Senna alata (L.) Roxb.
Canella, bark, Canella winterana (L.) Gaertn.
Caper buds, Capparis spinosa L.
Caper spurge, seed, Euphorbia lathyrus L.
Caraway, black, Nigella sativa L.
Caraway, fruit, Carum carvi L.
Cardamom, black, Amomum spp.
Cardamom, Ethiopian, Aframomum corrorima (A. Braun) P. C. M. Jansen.
Cardamom, green, Elettaria cardamomum (L.) Maton.
Cardamom, Nepal, Amomum subulatum Roxb., A. aromaticum Roxb.
Cardamom-amomum, Amomum compactum Sol. ex Maton.
Cascara sagrada, Frangula purshiana (DC.) A. Gray.
Cassia, bark, Cinnamomum spp.
Cassia, Chinese, bark, Cinnamomum aromaticum Nees.
Cassia, Chinese, fruit, Cinnamomum aromaticum Nees.
Cassia, fruit, Cinnamomum spp.
Cat's claw, bark, Uncaria tomentosa (Willd.) DC., U. guianensis (Aubl.) J. F. Gmel.
Catechu, bark, Senegalia catechu (L.f.) P. J. H. Hurter & Mabb.
Celery, seed, Apium graveolens var. dulce (Mill.) Pers.
Chaste tree, berry, Vitex agnus-castus L.
Chaste tree, Chinese, roots, Vitex negundo L.
Chervil, seed, Anthriscus cerefolium (L.) Hoffm.
Chinese hawthorn, Crataegus pinnatifida Bunge.
Chinese nutmeg tree, Torreya grandis Fortune.
Chinese wineberry, fruit, Aristotelia chilensis (Molina) Stuntz.
Chinese-pepper, Zanthoxylum simulans Hance.
Cinnamon, bark, Cinnamomum verum J. Presl.
Cinnamon, fruit, Cinnamomum verum J. Presl.
Cinnamon, Saigon, bark, Cinnamomum loureiroi Nees.
Cinnamon, Saigon, fruit, Cinnamomum loureiroi Nees.
Clove buds, Syzygium aromaticum (L.) Merr. & L.M. Perry.
Clusterleaf, Terminalia sericea Burch. ex DC.
Comfrey, Symphytum officinale L., Symphytum spp.
Copaiba, Copaifera officinalis (Jacq.) L.
Coptis, Coptis chinensis Franch., Coptis spp.
Coriander, fruit, Coriandrum sativum L.
Coriander, seed, Coriandrum sativum L.
Cotton, bark, Gossypium hirsutum L.
Crampbark, Virburnum opulus L.
Cubeb, seed, Piper cubeba L. f.
Culantro, seed, Eryngium foetidum L.
Culvers root, Veronicastrum virginicum.
Cumin, Cuminum cyminum L.
Cumin, black, Bumium persicum (Boiss.) B. Fedtsch.
Dill, seed, Anethum graveolens L.
Dorrigo pepper, berry, Tasmannia stipitata (Vick.) A.C. Smith.
Dorrigo pepper, leaf, Tasmannia stipitata (Vick.) A.C. Smith.
Dragon blood, Croton lechleri Müll. Arg.
Echinacea, seed, Echinacea purpurea (L.) Moench, Echinacea spp.
Epimedium, Epimedium spp.
Eucalyptus, Eucalyptus spp.
Eucommia, bark, Eucommia ulmoides Oliv.
European beech, Fagus sylvatica L.
Felty germander, Teucrium polium L.
Fennel flower, seed, Nigella hispanica L.
Fennel, common, fruit, Foeniculum vulgare Mill. subsp. vulgare var. vulgare.
Fennel, common, seed, Foeniculum vulgare Mill. subsp. vulgare var. vulgare.
Fennel, Florence, fruit, Foeniculum vulgare Mill. subsp. vulgare var. azoricum (Mill.) Thell.
Fennel, Florence, seed, Foeniculum vulgare Mill. subsp. vulgare var. azoricum (Mill.) Thell.
Fenugreek, seed, Trigonella foenum-graecum L.
Fingerroot, Boesenbergia rotunda (L.) Mansf.
Flame lily, seed, Gloriosa superba L.
Frankincense, Boswellia sacra Flueck.
Frankincense, Indian, Boswellia serrata Roxb. ex Colebr.
Fringetree, bark, Chionathus virginicus L.
Galbanum, resin, Ferula gummosa Boiss.
Gambooge, Garcinia gummi-gutta (L.) N. Robson.
Grains of paradise, Aframomum melegueta K. Schum.
Grains of Selim, Xylopia aethiopica (Dunal) A. Rich.
Guaiac, Guaiacum officinale L.
Guarana, Paullinia cupana Kunt.
Guggul, Commiphora wightii (Arn.) Bhandari.
Gum arabic, Senegalia senegal (L.) Britton.
Gum ghatti, Anogeissus latifolia (Roxb. ex DC.) Wall. ex Guill. & Perr.
Gum karaya, Stercula urens Roxb.
Gum tragacanth, Astragalus gummifer Labill.
Haw, black, Viburnum prunifolium L.
Honewort, seed, Cryptotaenia canadensis (L.) DC.
Imperatoria, Peucedanum officinale L.
Indian tobacco, seed, Lobelia inflata L.
Iva, Achillea erba-rotta All. subsp. moschata (Wulfen) I. Richardson.
Jalap, Ipomoea purga (Wender.) Hayne.
Jamaica dogwood, bark, Piscidia piscipula (L.) Sarg.
Juniper berry, Juniperus communis L.
Kaffir lime, leaf, Citrus hystrix DC.
Kewra, Pandanus fascicularis Lam.
Kokam, Garcinia indica (Thouars) Choisy.
Linden, leaf, Tilia americana L.
Lovage, seed, Levisticum officinale W.D.J. Koch.
Mace, Myristica fragrans Houtt.
Magnolia, bark, Magnolia officinalis Rehder & E. H. Wilson.
Mahaleb, Prunus mahaleb L.
Malabar cardamom, Amomum villosum Lour.
Malabar-tamarind, Garcinia spp.
Malabathrum, Cinnamomum tamala (Buch-Ham.) Nees & Eberm.
Mastic, Pistacia lentiscus L.
Micromeria, white, Micromeria fruticosa (L.) Druce.
Milk thistle, Silybum marianum (L.) Gaertn.
Mioga, Zingiber mioga (Thunb.) Roscoe.
Miracle fruit, Synsepalum dulcificum (Schumach. & Thonn.) Daniell.
Mistletoe, Viscum album L.
Mojave yucca, Yucca schidigera Roezl ex Ortgies.
Muira puama, Croton echioides Müll. Arg.
Mustard, black, Brassica nigra (L.) W.D.J. Koch.
Mustard, brown, Brassica juncea (L.) Czern. var. juncea.
Mustard, seed, Brassica spp. and Sinapis spp.
Mustard, white, Sinapis alba L. ssp. alba.
Myrrh, Commiphora myrrha (Nees) Engl., C. africana (A. Rich.) Engl.
Myrrh, bisabol, Commiphora kataf (Forssk.) Engl.
Myrtle, anise, Syzygium anisatum (Vickery) Craven & Biffen.
Myrtle, leaf, Myrtus communis L.
Myrtle, lemon, Backhousia citriodora F. Muell.
Nasturtium, bush, pods, Tropaeolum minus L.
Nasturtium, garden, pods, Tropaeolum majus L.
Nasturtium, pods, Tropaeolum spp.
Nettle, stinging, seed, Urtica dioica L.
Nutmeg, Myristica fragrans Houtt.
Osha, Ligusticum porteri J.M. Coult. & Rose.
Pepper, black, Piper nigrum L.
Pepper, Indian long, Piper longum L.
Pepper, Javanese long, Piper retrofractum Vahl.
Pepper, leaf, Piper auritum Kunth, P. lolot C.DC., P. sanctum (Miq.) Schltdl., P. umbellatum L.
Pepper, pink, Schinus terebinthifolius Raddi.
Pepper, Sichuan, Zanthoxylum spp.
Pepper, white, Piper nigrum L.
Pepperbush, berry, Tasmannia spp.
Pepperbush, leaf, Tasmannia spp.
Peppercorn, green, Piper nigrum L.
Peppertree, Schinus spp.
Peppertree, Peruvian, Schinus molle L.
Perilla, seed, Perilla frutescens (L.) Britton.
Phellodendron, Phellodendron amurense Rvpr.
Pine, maritime, Pinus pinaster Aiton.
Poppy, seed, Papaver somniferum L. subsp. somniferum.
Prickly ash, Chinese, Zanthoxylum bungeanum Maxim.
Prickly ash, Southern, bark, Zanthoxylum clava-herculis L.
Pygeum, Prunus africana (Hook. f.) Kalkman.
Qing hua jiao, Zanthoxylum schinifolium Siebold & Zucc.
Quassia, bark, Quassia amara L., Picrasma excelsa (Sw.) Planch.
Quebracho, bark, Aspidosperma quebracho-blanco Schltdl.
Quillaja, Quillaja saponaria Molina.
Quinine, Cinchona pubescens Vahl, Cinchona spp.
Rauwolfia, bark, Rauwolfia vomitoria Afzel.
Resin spurge, Euphorbia resinifera O. Berg.
Rue, Ruta graveolens L.
Saffron crocus, Crocus sativus L.
Sandalwood, seed, Santalum album L.
Sassafras, bark, Sassafras albidum (Nutt.) Nees.
Sassafras, leaf, Sassafras albidum (Nutt.) Nees.
Saunders, red, Pterocarpus santalinus L. f.
Saw palmetto, Serenoa repens (W. Bartram) Small.
Sesame, seed, Sesamum indicum L., S. radiatum Thonn. ex Hornem.
Silktree, bark, Albizia julibrissin Durazz., A. lebbeck (L.) Benth.
Simaruba, bark, Simarouba amara Aubl.
Skunk cabbage, root, Symplocarpus foetidus (L.) Salisb. ex W. P. C. Barton.
Slippery elm, Ulmus rubra Muhl.
Stemona, root, Stemona sessilifolia (Miq.) Miq.
Suma, Hebanthe eriantha (Poir.) Pedersen.
Sumac, fragrant, Rhus aromatica Aiton.
Sumac, smooth, leaf, Rhus glabra L.
Taheebo, bark, Handroanthus impetiginosus (Mart. ex DC.) Mattos.
Tamarind, seed, Tamarindus indica L.
Tasmanian pepper, berry, Tasmannia lanceolata (Poir.) A. C. Sm.
Tasmanian pepper, leaf, Tasmannia lanceolata (Poir.) A. C. Sm.
Threeleaf caper, Crataeva magna (Lour.) DC.
Tsaoko, Amomum tsao-ko Crevost & Lemarié.
Vanilla, Vanilla planifolia Jacks.
Wattleseed, Acacia spp.
White willow, Salix alba L.
Willow, Salix spp.
Witch hazel, Hamamelis virginiana L.
Yaw root, Stillingia sylvatica L.
Yellow gentian, roots, Gentiana lutea L.
Yohimbe, Pausinystalia johimbe (K. Schum.) Pierre.
Cultivars, varieties, and hybrids of these commodities.

[FR Doc. 2020-23874 Filed 11-5-20; 8:45 a.m.]

BILLING CODE 6560-50-P